FEDERAL RESERVE SYSTEM

[Docket No. OP-1312]

Privacy Act of 1974; Notice of Amendment of Systems of Records

AGENCY: Board of Governors of the Federal Reserve System.

ACTION: Notice; amendment of systems of records.

SUMMARY: Pursuant to the provisions of the Privacy Act of 1974, notice is given that the Board of Governors of the Federal Reserve System (Board) proposes to add two new systems, BGFRS-2 (Personnel Security Systems) and BGFRS-36 (Federal Reserve Application Name Check System), and delete two existing systems, BGFRS-15 (General Files of Federal Reserve Agents, Alternates and Representatives at Federal Reserve Banks) and BGFRS-22 (Chain Banking Reference System). The Board also proposes to modify all of the Board's remaining systems of records to ensure that the information maintained is compatible with the purposes for which the information is collected and that the systems are otherwise consistent with existing Board practices, policies and legal requirements.

DATES: Comments must be received on or before June 5, 2008. These systems of records will become effective June 16, 2008, without further notice, unless comments dictate otherwise.

ADDRESSES: The public, OMB, and Congress are invited to submit comments, identified by Docket No. OP-1312, by any of the following methods:

• Agency Web Site: http://www.federalreserve.gov. Follow the instructions for submitting comments. http://www.federalreserve.gov/generalinfo/foia/ProposedRegs.cfm.

• Federal eRulemaking Portal: http://www.regulations.gov. Follow the instructions for submitting comments.

• E-mail: regs.comments@federalreserve.gov. Include docket number in the subject line of the message.

• FAX: 202/452-3819 or 202/452-3102.

• Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, except as necessary for technical reasons. Accordingly, your comments will not be edited to remove any identifying or contact information. Public comments may also be viewed electronically or in paper in Room MP-500 of the Board's Martin Building (20th and C Streets, NW.) between 9 a.m. and 5 p.m. on weekdays.

FOR FURTHER INFORMATION CONTACT: Brad Fleetwood, Senior Counsel, Legal Division, Board of Governors of the Federal Reserve System, 20th and C Streets, NW., Mail Stop 17, Washington, DC 20551, or (202) 452-3721, or brad.fleetwood@frb.gov. For users of Telecommunications Device for the Deaf (TDD) only, contact (202) 263-4869.

In accordance with 5 U.S.C. 552a(r), a report of this amended system of records is being filed with the Chair of the House Committee on Oversight and Government Reform, the Chair of the Senate Committee on Homeland Security and Governmental Affairs, and the Office of Management and Budget.

SUPPLEMENTARY INFORMATION: The Board recently completed a review of its Privacy Act systems of record. During that review, the Board determined that it needed to create a system of records for personnel security information. The Board previously maintained a similar system (BGFRS-2, Personnel Background Investigations Reports), but deleted this system because it duplicated the government-wide system of records maintained by the Office of Personnel Management (OPM). However, the Board has determined that it keeps records not maintained by OPM. Thus, the Board has determined that it is necessary to create a system for personnel security information, BGFRS-2 (Personnel Security Systems). The Board also determined that it needed to create a system of records for name check information. The Board performs name checks on the proposed officers, directors, principal shareholders, or other persons associated with a depository institution, holding company, or other foreign or domestic entity in connection with the Board's consideration of various regulatory applications, notices, or proposals. The Board uses these records, along with other information, to determine whether the related filing meets the statutory factors for approval. Thus, the Board has determined that it is necessary to create a system for name check information, BGFRS-36 (Federal Reserve Application Name Check System).

Additionally, during the review, the Board determined that the BGFRS-15 (General Files of Federal Reserve Agents, Alternates and Representatives at Federal Reserve Banks) and BGFRS-22 (Chain Banking Reference System) contain no records and that the systems are no longer used or maintained by the Board. Thus, the Board determined that it was necessary to delete BGFRS-15 and BGFRS-22.

The Board also determined that it needed to modify the Board's remaining systems of records. In addition to making minor modifications so that each system contained consistent information, the Board updated each system's exemptions and routine uses to ensure that all of the routine uses are listed and accurate. In the process of updating the routine uses, the Board determined that it would be most efficient to standardize its most frequently used routine uses. Thus, the Board created standard routine uses A-I. General routine uses A-H were previously listed in most Board systems. General routine use I was added in accordance with a recommendation issued by the President's Identity Theft Task Force that all agencies add a routine use for disclosure where security or confidentiality has been compromised. The Board's general routine uses and updated systems of records are published herein.

General Routine Uses

A. Disclosure for Enforcement, Statutory and Regulatory Purposes. Information may be disclosed to the appropriate federal, state, local, foreign, or self-regulatory organization or agency responsible for investigating, prosecuting, enforcing, implementing, issuing, or carrying out a statute, rule, regulation, order, policy, or license if the information may be relevant to a potential violation of civil or criminal law, rule, regulation, order, policy or license.

B. Disclosure to Another Agency or a Federal Reserve Bank. Information may be disclosed to a federal agency in the executive, legislative, or judicial branch of government, or to a Federal Reserve Bank, in connection with the hiring, retaining, or assigning of an employee, the issuance of a security clearance, the conducting of a security or suitability investigation of an individual, the classifying of jobs, the letting of a contract, the issuance of a license, grant, or other benefits by the receiving entity, or the lawful statutory, administrative, or investigative purpose of the receiving entity to the extent that the information is relevant and necessary to the receiving entity's decision on the matter.

C. Disclosure to a Member of Congress. Information may be disclosed to a congressional office in response to an inquiry from the congressional office made at the request of the individual to whom the record pertains.

D. Disclosure to the Department of Justice, a Court, an Adjudicative Body or Administrative Tribunal, or a Party in Litigation. Information may be disclosed to the Department of Justice, a court, an adjudicative body or administrative tribunal, a party in litigation, or a witness if the Board (or in the case of an OIG system, the OIG) determines, in its sole discretion, that the information is relevant and necessary to the matter.

E. Disclosure to Federal, State, Local, and Professional Licensing Boards. Information may be disclosed to federal, state, local, foreign, and professional licensing boards, including a bar association, a Board of Medical Examiners, a state board of accountancy, or a similar governmental or non-government entity that maintains records concerning the issuance, retention, or revocation of licenses, certifications, or registrations relevant to practicing an occupation, profession, or specialty.

F. Disclosure to the EEOC, MSPB, OGE and OSC. Information may be disclosed to the Equal Employment Opportunity Commission, the Merit Systems Protection Board, the Office of Government Ethics, or the Office of Special Counsel to the extent determined to be relevant and necessary to carrying out their authorized functions.

G. Disclosure to Contractors, Agents, and Others. Information may be disclosed to contractors, agents, or others performing work on a contract, service, cooperative agreement, job, or other activity for the Board and who have a need to access the information in the performance of their duties or activities for the Board.

H. Disclosure to Labor Relations Panels. Information may be disclosed to the Federal Reserve Board Labor Relations Panel or the Federal Reserve Banks Labor Relations Panel in connection with the investigation and resolution of allegations of unfair labor practices or other matters within the jurisdiction of the relevant panel when requested.

I. Disclosure Where Security or Confidentiality Has Been Compromised. Information may be disclosed when (1) it is suspected or confirmed that the security or confidentiality of information in the system of records has been compromised; (2) the Board has determined that as a result of the suspected or confirmed compromise there is a risk of harm to economic or property interests, identity theft or fraud, or harm to the security or integrity of this system or other systems or programs (whether maintained by the Board or another agency or entity) that rely upon the compromised information; and (3) the disclosure is made to such agencies, entities, and persons who are reasonably necessary to assist in connection with the Board's efforts to respond to the suspected or confirmed compromise and prevent, minimize, or remedy such harm.

The Board also determined that modifications should be made to the Board's remaining systems of records based on input from the records system owner (or his or her designee) to ensure both that the systems accurately describe current recordkeeping and disclosure practices and that their routine uses are consistent and accurate. Generally, these updates were non-substantive in nature. However, in certain instances, substantive changes were made to ensure that the system of records notice accurately reflected the actual or desirable practice of the Board.

The majority of the substantive changes involved adding certain designated general routine uses to certain of the Board's systems of records. Most systems already provided for disclosure of records for enforcement, statutory and regulatory purposes; to a member of Congress; to the Department of Justice, a court, an adjudicative body or administrative tribunal, or a party in litigation; and to contractors, agents, and others. Where a system did not include these routine uses, they were added (except for those systems where such use would be incompatible with the purpose for which the records were collected), because the Board may generally disclose records for these purposes. This change resulted in amendments of the following systems: BGFRS-5 (EEO Discrimination Complaint File), BGFRS-9 (Supplier Files), BGFRS-10 (General Files on Board Members), BGFRS-11 (Official General Files), BGFRS-14 (General File of Reserve Bank and Branch Directors), BGFRS-16 (Regulation U Report of Nonbank Lenders), BGFRS-17 (Municipal or Government Securities Principals and Representatives), BGFRS-21 (Supervisory Enforcement Actions and Special Examinations Tracking System), BGFRS-24 (EEO General Files), BGFRS-25 (Multi-Rater Feedback), BGFRS-31 (Protective Information System), BGFRS-32 (Visitor Registration), BGFRS-33 (Telephone Call Detail Records), BGFRS-34 (ESS Staff Identification Card File), BGFRS-35 (Federal Reserve Application Name Check System), OIG-1 (FRB-OIG Investigative Records), and OIG-2 (OIG Personnel Records).

Similarly, a routine use permitting disclosure to federal and state professional licensing boards and similar entities was added to: BGFRS-5 (EEO Discrimination Complaint File), BGFRS-6 (Disciplinary and Adverse Action Records), BGFRS-12 (Bank Officers Personnel System), BGFRS-17 (Municipal or Government Securities Principals and Representatives), BGFRS-27 (Performance Management Program Records), OIG-1 (FRB-OIG Investigative Records), and OIG-2 (OIG Personnel Records). A routine use permitting disclosure to the EEOC and other government agencies in connection with those agencies' functions was added to: BGFRS-5 (EEO Discrimination Complaint File), BGFRS-24 (EEO General Files), BGFRS-33 (Telephone Call Detail Records), OIG-1 (FRB-OIG Investigative Records), and OIG-2 (OIG Personnel Records). A routine use permitting disclosure to another agency or a Federal Reserve Bank in both connection with background or security checks for Board employees or contractors or in connection with those agencies or a Reserve Bank's functions was added to: BGFRS-18 (Consumer Complaint Information) and BGFRS-34 (ESS Staff Identification Card File). A routine use permitting disclosure to Labor Relations Panels in connection with investigation and resolution of unfair labor practices was added to BGFRS-12 (Bank Officers Personnel System).

In addition, virtually every system was amended in a manner consistent with the recommendation of the President's Identity Theft Task Force to add a routine use for disclosure to agencies, entities, and persons involved in an effort to respond to a suspected or confirmed breach of the security or confidentiality of information.

The Board also added new, individualized routine uses to certain systems of records to ensure that systems' notices accurately reflected the existing and anticipated recordkeeping and disclosure practices. In BGFRS-3 (Medical Records), BGFRS-4 (General Personnel Records), and BGFRS-29 (Benefits Records), the Board added a routine use that permits the Board to disclose information to an emergency contact in the event of an emergency to assist the individual in obtaining certain benefits. BGFRS-4 (General Personnel Records) was also modified to add a routine use that permits the Board to disclose information to federal, state and local agencies necessary to comply with laws regarding communicable diseases. BGFRS-29 (Benefits Records) was further modified to add a routine use that permits the Board to disclose information to the Office of Personnel Management in connection with employee participation in the Federal Employee Group Life Insurance Program and Thrift Savings Plan. In BGFRS-7 (Payroll and Leave Records), the Board added a routine use that permits the disclosure of information to an entity preparing a mortgage or other loan to an employee to verify employment status and salary, at the request of the individual. In BGFRS-8 (Travel Records), the Board added a routine use that permits the disclosure of information for purposes of monitoring travel and enabling audits of common carrier charges to the Federal government. In BGFRS-20 (Survey of Consumer Finances), the Board amended the routine uses to indicate that the records in the system are protected under the Confidential Information Protection and Statistical Efficiency Act (CIPSEA) and that disclosure is made only to the extent permitted under CIPSEA. In OIG-2 (Office of Inspector General Personnel Records), the Board added a routine use that permits the OIG to disclose information to government officials charged with the responsibility to conduct qualitative assessment reviews of internal safeguards and management procedures.

The Board also updated each system's records retention period to be consistent with the National Archives and Records Administration's General Record Schedules and Board-specific records retention and disposition schedules. Moreover, consistent with the Board's newly updated Privacy Act regulation (12 CFR 261a), the notification procedures, records access procedures, and contesting record procedures for each system have been updated to reflect the fact that all inquiries and requests regarding Privacy Act systems of records should be directed to the Secretary of the Board.

Systems of Records

BGFRS-1

System name:

FRB—Recruiting and Placement Records.

System location:

Board of Governors of the Federal Reserve System, 20th Street and Constitution Avenue, NW., Washington, DC 20551.

Some information, primarily resumes, is collected and maintained, on behalf of the Board, by IBM at 375 Riverside Parkway, Lithia Springs, GA 30122.

Paper resumes are collected and maintained, on behalf of the Board, by Staffing Outsourcing Solutions, LLC at 6267 S. Front Road, Livermore, CA 94551.

Categories of individuals covered by the system:

Persons who have applied for employment with the Federal Reserve Board.

Categories of records in the system:

Resumes, applications, and supporting documentation submitted by persons seeking employment; information from job fairs; referrals from Federal Reserve Banks and other federal government agencies; transcripts or notes from interviews with some applicants; notes of interviews with references; information regarding verification of education and/or military status; some employment inquiries (and responses) sent to the Chairman or other governors or officials of the Board; and offer letters and related correspondence. Certain information is retained in an electronic database to enable the Board's Equal Employment Opportunity Office to monitor and track its recruiting and hiring performance.

Authority for maintenance of the system:

Sections 10 and 11 of the Federal Reserve Act (12 U.S.C. 244 and 248).

Purpose(s):

These records are collected and maintained to assist the Board in recruiting and retaining qualified employees, and to allow the Board to periodically review its hiring practices.

Routine uses of records maintained in the system, including categories of users and the purposes of such uses:

General routine uses A, B, C, D, E, F, G, H, and I apply to this system. Records may also be used to disclose information to any source from which additional information is requested (to the extent necessary to identify the individual, inform the source of the purpose(s) of the request, and to identify the type of information requested), when necessary to obtain information relevant to a Board decision to hire or retain an employee, issue a security clearance, conduct a security or suitability investigation of an individual, classify jobs, let a contract, or issue a license, grant, or other benefits.

Policies and practices for storing, retrieving, accessing, retaining, and disposing of records in the system:

Storage. Records are stored in paper and electronic form.

Retrievability. Paper records can be retrieved by year or job category, not by individually identifiable labels. Electronic records can be retrieved by name or other identifying aspects.

Access Controls. Access to records is limited to those whose official duties require it. Paper records are secured by lock and key and electronic records are password protected.

Retention and disposal. The retention period for resumes is currently under review. Until review is completed, those records will not be destroyed. All other records are retained for the appropriate period which ranges from no retention period to one year after separation or transfer.

System manager and address:

Manager, Staffing, ER and Clearances, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; the transcript or notes from interviews with the individual; notes from interviews and supporting documentation from references; personnel records of other government civilian or military agencies or Federal Reserve Banks; and official transcripts and other documentation from schools identified by the individual.

Exemptions claimed for the system:

Certain portions of this system of records may be exempt from 5 U.S.C. 552a(c)(3), (d), (e)(1), (e)(4)(G), (H), and (I), and (f) of the Privacy Act pursuant to subsections 5 U.S.C. 552a(k)(2) and (k)(5).

BGFRS-2

System name:

FRB—Personnel Security Systems.

System location:

Board of Governors of the Federal Reserve System, 20th Street and Constitution Avenue, NW., Washington, DC 20551.

Categories of individuals covered by the system:

Past and present employees of the Board of Governors; and Federal Reserve System employees, contractors, employees of contractors, experts, instructors, and consultants to the Board considered for access to classified information or restricted areas or for security determinations; and individuals who are neither applicants nor employees of the Board but are or were involved in Board programs under a cooperative assignment or similar agreement.

Categories of records in the system:

Investigative information (including personal identifiable information) regarding an individual's character, financial responsibility, conduct, and/or behavior; arrests and convictions for any violations of law; reports of interviews with former supervisors, co-workers, associates, educators, etc.; reports about the qualifications of an individual for a specific position; reports of inquiries with law enforcement agencies; former employers; educational institutions attended; and other information developed from the above. This system does not include investigative reports provided by OPM. Investigative Reports provided by OPM are maintained in a government-wide system of records (OPM/CENTRAL-9) and requests for access to or amendment of such reports should be made to the Federal Investigations Processing Center.

Authority for maintenance of the system:

Sections 10 and 11 of the Federal Reserve Act (12 U.S.C. 243 and 248), and Executive Order 9397.

Purpose(s):

These records are collected and maintained to assist the Board in making suitability determinations.

General routine uses A, B, C, D, G, and I apply to this system. Records may also be used:

1. To disclose information to assist in determining the suitability for access to classified information;

2. To disclose information to the intelligence agencies of the Department of Defense, National Security Agency, Central Intelligence Agency, the White House and the Federal Bureau of Investigation, and any other intelligence agency of the United States, for use in intelligence activities; and

3. To disclose information to any source from which information is requested by the Board in the course of an investigation, to the extent necessary to identify the individual, inform the source of the nature and purpose of the investigation and to identify the type of information requested.

Policies and practices for storing, retrieving, accessing, retaining, and disposing of records in the system:

Storage. Records are stored in paper and electronic form.

Retrievability. Records can be retrieved by name or social security number.

Access Controls. Access to records is limited to those whose official duties require it. Paper records are secured by lock and key and electronic records are password protected.

Retention and disposal. All case files are retained until the earlier of individual's death or five years after the end of the employment or contract relationship and all investigative reports are retained in accordance with the instructions of the investigative agency. Electronic records will be stored online at least six months at the end of an investigation/case.

System manager and address:

Manager, Staffing, ER and Clearances, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment. Record source categories:

Information is provided by applications and other personnel and security forms furnished by the individual, investigative material furnished by other federal agencies (including notices of personnel actions), personal investigation or written inquiry from sources such as employers, schools, references, neighbors, associates, police departments, courts, credit bureau, medical records, probation officials, and prison officials, newspapers, magazines, periodicals, and other publications, and published hearings of congressional committees.

Exemptions claimed for the system:

Certain portions of this system of records may be exempt from 5 U.S.C. 552a(c)(3), (d), (e)(1), (e)(4)(G), (H), and (I) and (f) of the Privacy Act pursuant to 5 U.S.C. 552a(k)(2) and (k)(5).

BGFRS-3

System name:

FRB—Medical Records.

System location:

Board of Governors of the Federal Reserve System 20th Street and Constitution Avenue, NW., Washington, DC 20551.

Information relating to blood work on employees is collected and maintained on behalf of the Board by Quest Diagnostics Inc., at 1901 Sulphur Spring Road, Baltimore, MD 21227.

Information relating to drug testing under the Drug-Free Workplace Plan is collected and maintained on behalf of the Board by Pembrooke at 2307 North Parham Road, Richmond, VA 23229.

Categories of individuals covered by the system:

Past and present Board employees (including special employees); applicants who have been medically examined for Board employment; and visitors who receive medical treatment at the Board.

Categories of records in the system:

Pre-employment medical examinations of potential employees; yearly fit-for-duty examinations for employees whose jobs have medical standards; periodic medical examinations of employees; treatment or advice provided by the Health Unit's staff to an employee or visitor; any medical information provided to the Health Unit by an employee; an employee's participation in an occupational health services program; information pertaining to an employee's workers' compensation claim; information pertaining to the Board's Drug-Free Workplace Plan; and employees' use of the Board's exercise facilities.

Authority for maintenance of the system:

Sections 10 and 11 of the Federal Reserve Act (12 U.S.C. 244 and 248), Executive Order 12564, and the Rehabilitation Act of 1973.

Purpose(s):

These records are collected and maintained to assist the Board in determining an employee's fitness for duty and eligibility for benefits based on medical information, to assist the Board in providing a safe and healthy working environment, and to comply with Executive Order 12564.

Routine uses of records maintained in the system, including categories of users and the purposes of such uses:

Employee medical information that is obtained under the Rehabilitation Act may be used only in accordance with the confidentiality provisions of the Rehabilitation Act. General routine uses A, B, C, D, F, G, H, and I apply to this system. Records may also be used:

1. To disclose information to the Board's Thrift Plan, the Board's Group Life Insurance administrators, Department of Labor, Department of Veterans Affairs, Social Security Administration, Federal Retirement Thrift Investment Board, or a national, state, or local Social Security-type agency, when necessary to adjudicate a claim (filed by or on behalf of the individual) under a retirement, insurance, or health benefit program;

2. To disclose information to a federal, state, or local agency to the extent necessary to comply with laws governing reporting of communicable disease or when it is reasonably believed that an individual might have contracted an illness or been exposed to or suffered from a health hazard while employed in the federal work force;

3. To disclose to health insurance carriers that provide a health benefits plan under the Federal Employees Health Benefits Program information that is necessary to verify eligibility for payment of a claim for health benefits; and

4. To disclose information to the executor of an individual's estate, the government entity probating a will, a designated beneficiary, or to any person who is responsible for the care of an individual to the extent necessary when the individual to whom a record pertains is deceased, mentally incompetent, or under other legal disability, and to disclose information to an individual's emergency contact, or, if the emergency contact is unavailable, to any person who the Board believes is assisting the individual, when necessary to assist that individual in obtaining any employment benefit or any working condition, such as an accommodation under the Rehabilitation Act of 1973.

Policies and practices for storing, retrieving, accessing, retaining, and disposing of records in the system:

Storage. Records are stored in paper form.

Retrievability. Records can be retrieved by name.

Safeguards. Access to records is limited to those whose official duties require it. Paper records are secured by lock and key.

Retention and disposal. All records are retained in accordance with the general records schedule. Individual non-occupational health records are destroyed six years after the last entry; personal injury files are destroyed three years after the termination of compensation or the time for filing a claim has passed; temporary or short-term records kept in an 19.\employee's medical folder are destroyed one year after separation or transfer; and long term medical records kept in an employee's medical folder are destroyed 75 years after the birth date of employee, or if the birth date cannot be ascertained, 60 years after date of the earliest document in the folder, or 30 years after latest separation, whichever is later.

System manager and address:

Manager, Health and Safety, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; an employee's physical or mental health care provider or counselor; the contractor administering the Drug-Free Workplace Plan or any other diagnostic laboratory; official records of other federal agencies; and Federal Reserve System personnel records.

Exemptions claimed for the system:

None.

BGFRS-4

System name:

FRB—General Personnel Records.

System location:

Board of Governors of the Federal Reserve System, 20th Street and Constitution Avenue, NW., Washington, DC 20551.

Categories of individuals covered by the system:

Past and present employees of the Board, and the surviving spouses and children of former Board employees.

Categories of records in the system:

Information relating to employment determinations; salary and job classification actions; leave; placement; personnel actions; academic assistance; training and development activities; PMP ratings (but not the actual PMP form); minority group and medical disability designators; records relating to benefits and designation of beneficiary; emergency contact information; address and name changes; information concerning awards; and other information relating to the status of the individual while employed by the Board, including records of jury duty by the employee. All categories of records may include identifying information, such as name, date of birth, home address, mailing address, Social Security number, and personal telephone numbers.

Authority for maintenance of the system:

Sections 10 and 11 of the Federal Reserve Act (12 U.S.C. 244 and 248), and Executive Order 9397.

Purpose(s):

These records are collected and maintained to assist the Board in its personnel actions and decisions, and in the administration of its benefits programs.

Routine uses of records maintained in the system, including categories of users and the purposes of such uses:

General routine uses A, B, C, D, E, F, G, H, and I apply to this system. Records may also be used:

1. To disclose information to government training facilities (federal, state, and local) and to nongovernment training facilities (private vendors of training courses or programs, private schools, etc.) for training purposes;

2. To disclose information to educational institutions on appointment of a recent graduate to a position at the Board, and to provide college and university officials with information about their students who are working in internships or other similar programs necessary to a student's obtaining credit for the experience gained;

3. To disclose information to the Department of Labor, Department of Veterans Affairs, Social Security Administration, Department of Defense, a Federal Reserve Bank, or any federal agencies that have special civilian employee retirement programs; or to a national, state, county, municipal, or other publicly recognized charitable or income security administration agency (e.g., state unemployment-compensation agencies), when necessary to adjudicate a claim under the retirement, insurance, unemployment, or health benefits programs of the Board, a Federal Reserve Bank, or any agency cited above, or to an agency to conduct an analytical study or audit of benefits being paid under such programs;

4. To disclose to the Office of Personnel Management's Federal Employees Group Life Insurance Program or any contractor, information necessary to verify election, declination, or waiver of regular and/or optional life insurance coverage, eligibility for payment of a claim for life insurance, or a Thrift Savings Program (TSP) election change and designation of beneficiary;

5. To disclose to an employee, agent, contractor, or administrator of any Board, Federal Reserve System, or federal government employee benefit or savings plan, any information necessary to carry out any function authorized under such plan, or to carry out the coordination or audit of a benefit or savings plan;

6. To disclose information to any source from which additional information is requested (to the extent necessary to identify the individual, inform the source of the purpose(s) of the request, and to identify the type of information requested), when necessary to obtain information relevant to a Board decision to hire or retain an employee, issue a security clearance, conduct a security or suitability investigation of an individual, classify jobs, let a contract, or issue a license, grant, or other benefits;

7. To disclose information to the executor of an individual's estate, the government entity probating a will, a designated beneficiary, or to any person who is responsible for the care of an individual to the extent necessary when the individual to whom a record pertains is deceased, mentally incompetent, or under other legal disability, and to disclose information to an individual's emergency contact, or, if the emergency contact is unavailable, to any person who the Board believes is assisting the individual, when necessary to assist that individual in obtaining any employment benefit or any working condition, such as an accommodation under the Rehabilitation Act of 1973;

8. To disclose information to a federal, state, or local agency to the extent necessary to comply with laws governing reporting of communicable diseases or when it is reasonably believed that an individual might have contracted an illness or been exposed to or suffered from a health hazard while employed in the federal work force;

9. To disclose to prospective nonfederal employers the following information about a specifically identified current or former Board employee: (1) Tenure of employment; (2) civil service status; (3) length of service at the Board and in the government; and (4) when separated, the date and nature of action as shown on the job action;

10. To disclose information to a federal, state or local governmental entity or agency (or its agent) when necessary to locate individuals who are owed money or property either by a federal, state, or local agency, or by a financial or similar institution;

11. To disclose to a spouse or dependent child (or court-appointed guardian thereof) of a Board employee enrolled in the Federal Employees Health Benefits Program when the employee has changed from a self-and-family to a self-only health benefits enrollment and to disclose to a spouse information regarding the employee's pension and Thrift plan;

12. To verify for an entity preparing to make a loan to an employee the individual's employment status and salary;

13. To disclose information to officials of labor organizations recognized under applicable law, regulation, or policy when relevant and necessary to their duties of exclusive representation concerning personnel policies, practices, and matters affecting working conditions;

14. To disclose information to officials of foreign governments for clearance before a Board employee is assigned to that country;

15. To disclose information to a federal, state, or local agency for determination of an individual's entitlement to benefits in connection with Federal Housing Administration programs or other federal programs;

16. To consider and select employees for incentive awards and other honors and to publicize those granted (this may include disclosure to other public and private organizations, including news media, which grant or publicize employee awards);

17. To disclose specific Board or civil service employment information required under law by the Department of Defense on individuals identified as members of the Ready Reserve to ensure continuous mobilization readiness of Ready Reserve units and members, and to identify demographic characteristics of Board or civil service retirees for national emergency mobilization purposes;

18. To disclose relevant information with personal identifiers of Board employees to authorized federal agencies and nonfederal entities for use in computer matching. The matches will be performed to help eliminate waste, fraud, and abuse in governmental programs; to help identify individuals who are potentially in violation of civil or criminal law or regulation; and to collect debts and overpayments owed to federal, state, or local governments and their components. The information disclosed may include, but is not limited to, the name, Social Security number, date of birth, gender, annualized salary rate, service computation date of basic active service, veteran's preference, retirement status, occupational services, health plan code, position occupied, work schedule (full time, part time, or intermittent), duty station location, standard metropolitan statistical area, special program identifier, and submitting office number of Board employees; and

19. To disclose information to the Office of Child Support Enforcement, Administration for Children and Families, Department of Health and Human Services, Federal Parent Locator System and Federal Offset System for use in locating individuals, verifying Social Security numbers, and identifying their incomes sources to establish paternity, establish and modify orders of support for enforcement action.

Policies and practices for storing, retrieving, accessing, retaining, and disposing of records in the system:

Storage. Records are stored in paper and electronic form. Electronic records are stored in the Federal Reserve Integrated Records Management Architecture (FIRMA).

Retrievability. Records can be retrieved by name or employee identification number.

Access Controls. Access to records is limited to those whose official duties require it. Paper records are secured by lock and key and electronic records are password protected.

Retention and disposal. All records are retained for the appropriate period which ranges from when superseded or obsolete to sixty-five years after separation from Federal service.

System manager and address:

Associate Director, Human Resources, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom it applies (or is derived from the information the individual supplied); Board officials; the OPM Personnel Management Records System; personnel records of other government agencies; personnel records of Federal Reserve Banks; and official transcripts from schools when authorized by the employee.

Exemptions claimed for the system:

Certain portions of this system of records may be exempt from 5 U.S.C. 552a(c)(3), (d), (e)(1), (e)(4)(G), (H), and (I), and (f) of the Privacy Act pursuant to 5 U.S.C. 552a(k)(2) and (k)(5).

BGFRS-5

System name:

FRB—EEO Discrimination Complaint File.

System location:

Board of Governors of the Federal Reserve System, 20th Street and Constitution Avenue, NW., Washington, DC 20551.

Categories of individuals covered by the system:

Applicants for Board employment, and past and present Board employees who have filed a complaint of discrimination or appealed a determination made by an official of the Board relating to equal employment opportunities.

Categories of records in the system:

Documents relating to a complaint, the decision or determination made by the Board affecting an individual under the Board's EEO regulations and procedures. The records consist of the initial complaint or appeal letters or notices to the individual, record of hearings when conducted, materials placed into the record to support the decision or determination, affidavits or statements, testimonies of witnesses, investigative reports, instructions to the Board and/or individual about action to be taken to comply with decisions, and related correspondence, opinions and recommendations.

Authority for maintenance of the system:

Sections 10 and 11 of the Federal Reserve Act (12 U.S.C. 244 and 248).

Purpose(s):

These records are collected and maintained to assist the Board in carrying out its responsibilities under the Rehabilitation Act of 1973, Title VII of the Civil Rights Act, and other nondiscrimination statutes.

Routine uses of records maintained in the system, including categories of users and the purposes of such uses:

General routine uses A, B, C, D, F, G, and I apply to this system. Records may also be used to disclose information to management as a data source for production of summary descriptive statistics and analytical studies in support of the function for which the records are collected and maintained, or for related personnel management functions or manpower studies and may also be utilized to respond to investigative or legal requests for statistical information (without personal identification of individuals).

Policies and practices for storing, retrieving, accessing, retaining, and disposing of records in the system:

Storage. Records are stored in paper form.

Retrievability. Records can be retrieved by the individual's name.

Access Controls. Access to records is limited to those whose official duties require it. Records are secured by lock and key.

Retention and disposal. All records are retained for four years after resolution of the case.

System manager and address:

EEO Programs Director, Office of the Staff Director for Management, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, Board employees, testimonies of witnesses, official documents relating to the appeal, grievance, or complaints, and correspondence from organizations or persons.

Exemptions claimed for the system:

Certain portions of this system of records may be exempt from 5 U.S.C. 552a(c)(3), (d), (e)(1), (e)(4)(G), (H), and (I), and (f) of the Privacy Act pursuant to 5 U.S.C. 552a(k)(2).

BGFRS-6

System name:

FRB—Disciplinary and Adverse Action Records.

System location:

Board of Governors of the Federal Reserve System, 20th Street and Constitution Avenue, NW., Washington, DC 20551.

Categories of individuals covered by the system:

Past and present Board employees (including special employees) who were or are involved in a disciplinary or adverse action.

Categories of records in the system:

This system contains records and documents on the processing of adverse actions and disciplinary actions. The following categories of records are maintained in this system: Copies of the notice of proposed action, materials relied on by the Board to support the reasons in the notice, replies by the employee, statements of witnesses, hearing notices, record of hearings, reports, appeals and related documents, Board decisions, and records related to the Personnel Placement Program.

Authority for maintenance of the system:

Sections 10 and 11 of the Federal Reserve Act (12 U.S.C. 244 and 248).

Purpose(s):

These records are collected and maintained to assist the Board in administering its personnel functions, and to maintain a record of proceedings in a disciplinary or adverse action.

Routine uses of records maintained in the system, including categories of users and the purposes of such uses:

General routine uses A, B, C, D, E, F, G, H, and I apply to this system. Records may also be used:

1. To disclose information to any source from which additional information is requested (to the extent necessary to identify the individual, inform the source of the purpose(s) of the request, and identify the type of information requested), when necessary to obtain information relevant to a Board decision to hire or retain an employee, issue a security clearance, conduct a security or suitability investigation of an individual, classify jobs, let a contract, or issue a license, grant, or other benefit;

2. In producing summary descriptive statistics and analytical studies to support the function for which the records are collected and maintained, or for related work force studies (While published statistics and studies do not contain individual identifiers, in some instances the selection of elements of data included in the study may be structured in such a way as to make the data individually identifiable by inference.);

3. To provide an official of another federal agency information he or she needs to know in the performance of his or her official duties or reconciling or reconstructing data files, in support of the functions for which the records were collected and maintained; and

4. To disclose information to the Department of Labor, Department of Veterans Administration, Social Security Administration, Department of Defense, a Federal Reserve Bank, or any other federal agencies that have special civilian employee retirement programs; or to a national, state, county, municipal, or other publicly recognized charitable or income security, administration agency (e.g., state unemployment compensations agencies), when necessary to adjudicate a claim under the retirement, insurance, unemployment, or health benefits programs of the Board, a Federal Reserve Bank, or any agency cited above, or to an agency to conduct an analytical study or audit of benefits being paid under such programs.

Policies and practices for storing, retrieving, accessing, retaining, and disposing of records in the system:

Storage. Records are stored in paper and electronic form.

Retrievability. Records can be retrieved by the names of the individuals on whom they are maintained.

Safeguards. Access to records is limited to those whose official duties require it. Paper records are secured by lock and key and electronic records are password protected.

Retention and disposal. Records are maintained for seven years after the case is closed.

System manager(s) and address:

Manager, Staffing, ER and Clearances, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; Board officials; affidavits or statements from employees; testimonies of witnesses; official documents relating to an action, appeal, grievance, or complaint; and correspondence from specific organizations or persons.

Exemptions claimed for the system:

None.

BGFRS-7

System name:

FRB—Payroll and Leave Records.

System location:

Board of Governors of the Federal Reserve System, 20th Street and Constitution Avenue, NW., Washington, DC 20551.

Categories of individuals covered by the system:

Past and present employees and members of the Board.

Categories of records in the system:

Payroll records, including pay statements; requests for deductions; tax and Social Security withholdings; Board retirement deductions; any voluntary withholdings; tax forms; W-2 forms; overtime requests; leave data; worker's compensation data; leave records, including compensatory time, and codes indicating reasons for taking leave, such as family illness, or military leave.

Authority for maintenance of the system:

Sections 10 and 11 of the Federal Reserve Act (12 U.S.C. 244 and 248), and Executive Order 9397.

Purpose(s):

These records are collected and maintained by the Board for payroll, attendance, leave, insurance, tax, retirement, budget, and cost-accounting programs, and to facilitate compliance with statutory requirements.

Routine uses of records maintained in the system, including categories of users and the purposes of such uses:

General routine uses A, B, C, D, E, F, G, H, and I apply to this system. Records may also be used:

1. To disclose information to the Office of Child Support Enforcement of the United States Department of Health and Human Services, for use in locating individuals, verifying Social Security Numbers, and identifying their income sources to establish paternity, establishing and modifying orders of child support, identifying sources of income, and for other child support enforcement actions;

2. To disclose information appropriate federal and state agencies to provide required reports including data on unemployment insurance;

3. To disclose information to the Social Security Administration to report FICA deductions;

4. To disclose information to charitable institutions to report contributions;

5. To disclose information to the Internal Revenue Service and to state, local, tribal, and territorial governments for tax purposes;

6. To disclose information to the Office of Personnel Management in connection with programs administered by that office;

7. To disclose information to an employee, agent, contractor, or administrator of any Board, Federal Reserve System, or federal government employee benefit or savings plan, any information necessary to carry out any function authorized under such plan, or to carry out the coordination or audit of such plan;

8. To disclose information to officials of labor organizations recognized under applicable law, regulation, or policy when relevant and necessary to their duties of exclusive representation concerning personnel policies, practices, and matters affecting working conditions;

9. To disclose information to a federal agency for the purpose of collecting a debt owed the federal government through administrative or salary offset or the offset of tax refunds;

10. To disclose relevant information to other federal agencies conducting computer matching programs to eliminate fraud and abuse and to detect unauthorized overpayments made to individuals; and

11. To disclose information to verify for an entity preparing to make a mortgage or other loan to an employee the individual's employment status and salary, at the request of the individual.

Policies and practices for storing, retrieving, accessing, retaining, and disposing of records in the system:

Storage. Records are stored in paper form and electronic form.

Retrievability. Records can be retrieved by name, social security number, or employee identification number.

Access Controls. Access to records is limited to those whose official duties require it. Paper records are secured by lock and key and electronic records are password protected.

Retention and disposal. All records are retained for the appropriate period which ranges from one year from the date of annual audit or when six years old (whichever is sooner) to sixty-five years after separation or transfer of the employee.

System manager and address:

Manager, Payroll, Compensation and Benefits, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual or his or her supervisor on internal personnel forms, federal, state, and local tax forms, employee authorizations and directive forms, insurance forms, leave and overtime reports, and federal and state garnishment forms.

Exemptions claimed for the system:

None.

BGFRS-8

System name:

FRB—Travel Records.

System location:

Board of Governors of the Federal Reserve System, 20th Street and Constitution Avenue, NW., Washington, DC 20551.

Some information, including travel and lodging reservations by employees and individuals who are provided travel by the Board, is collected and maintained, on behalf of the Board, by SatoTravel Services at 4601 N. Fairfax Drive, Suite 170, Arlington, VA 22203.

Categories of individuals covered by the system:

Past and present Board employees, and authorized individuals who are provided travel by the Board.

Categories of records in the system:

Travel Authorization forms and supporting documentation; Travel Expense Statements and supporting documentation; applications for the government travel card; periodic reports from the card issuer regarding use of the government travel cards; records regarding Board reimbursement of travel expenses; and records regarding reservations for transportation and lodging sent to the Board's Travel Office. Records maintained by the government travel card issuer are covered by the government-wide system of records, Travel Charge Card Program (GSA/GOVT-3).

Authority for maintenance of the system:

Sections 10 and 11 of the Federal Reserve Act (12 U.S.C. 244 and 248), and Executive Order 9397.

Purpose(s):

These records are collected and maintained to provide a travel management process that covers official travel for the Board and provides for tracking and appropriate reimbursement of expenses incurred in such travel.

Routine uses of records maintained in the system, including categories of users and the purposes of such uses:

General routine uses A, B, C, D, F, G, H, and I apply to this system. Records may also be used:

1. To disclose information to a Federal agency for accumulating reporting data and monitoring travel management centers;

2. To disclose information in the form of listings, reports, and records of all common carrier transactions including refunds and adjustments to an agency by the contractor to enable audits of carrier charges to the Federal government; and

3. To disclose information to consumer reporting agencies as defined in the Fair Credit Reporting Act (15 U.S.C. 1681a(f)) regarding the use of the government travel card.

Policies and practices for storing, retrieving, accessing, retaining, and disposing of records in the system:

Storage. Records are stored in both paper and electronic form.

Retrievabililty. Paper records can be retrieved by the traveler's name. Electronic records can be retrieved by name, employee identification number, social security number, travel card account number, or trip number.

Access Controls. Access to records is limited to those whose official duties require it. Paper records are secured by lock and key and electronic records are password protected. Paper records more than two years old are stored at an offsite facility.

Retention and disposal. All records are retained for six years after the period of the account except that in certain instances (generally involving deductions or overcharges), the records are retained for ten years.

System manager and address:

Manager, Special Projects and Travel, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, from Travel Authorizations, reports from the government travel card contractor, from the automated financial system of the Management Division regarding reimbursement, and from the travel agency regarding reservations.

Exemptions claimed for the system:

None.

BGFRS-9

System name:

FRB—Supplier Files.

System location:

Board of Governors of the Federal Reserve System, 20th Street and Constitution Avenue, NW., Washington, DC 20551.

Categories of individuals covered by the system:

Individuals who supply contracted services to the Board, and speakers, applicants or other official visitors to whom the Board must provide reimbursement for fees, travel or other expenses (collectively referred to as “suppliers”).

Categories of records in the system:

Supplier Information Form, W-9 Tax Identification Document, and any other information pertaining to the supplier's status. The Supplier Information Form contains the following information: individual's name, social security number or taxpayer identification number, address, telephone/fax numbers, email address, contact name/telephone number, supplier classification (such as vendor, speaker, or applicant), and EFT bank information.

Authority for maintenance of the system:

Sections 10 and 11 of the Federal Reserve Act (12 U.S.C. 244 and 248), and Executive Order 9397.

Purpose(s):

These records are collected and maintained to assist the Board in tracking and paying suppliers and completing reports for the Internal Revenue Service.

Routine uses of records maintained in the system, including categories of users and the purposes of such uses:

General routine uses A, C, D, G, and I, apply to this system. Records may also be used to disclose information to the Internal Revenue Service to report payments that may be considered income to the suppliers.

Policies and practices for storing, retrieving, accessing, retaining, and disposing of records in the system:

Storage. Records are stored in paper and electronic form. Some electronic records created prior to October 2003 are stored in the Federal Reserve Integrated Records Management Architecture (FIRMA).

Retrievability. Paper records can be retrieved by a supplier's name. Electronic records can be retrieved by name, social security number, taxpayer identification number, or purchase order number.

Access Controls. Access to records is limited to those whose official duties require it. Paper records are secured by lock and key and electronic records are password protected.

Retention and disposal. All records relating to contracts that exceed the simplified acquisition threshold and all construction contracts exceeding $2,000 are retained for six years and three months after final payment and all other records are retained for three years after final payment.

System manager and address:

Assistant Director, Technology Support, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual on whom the record pertains, information from Travel Authorizations and Travel Expense Statements, and information from contract documents.

Exemptions claimed for the system:

None.

BGFRS-10

System name:

FRB—General Files on Board Members.

System location:

Board of Governors of the Federal Reserve System, 20th Street and Constitution Avenue, NW., Washington, DC 20551.

Categories of individuals covered by the system:

Past and present members of the Board.

Categories of records in the system:

Biographies of past and present members of the Board, oaths of office, and miscellaneous correspondence relating to such members.

Authority for maintenance of the system:

Sections 10 and 11 of the Federal Reserve Act (12 U.S.C. 244 and 248).

Purpose(s):

These records are collected and maintained to confirm the composition of the Board, length of term, appointments, succession, and biographical details.

Routine uses of records maintained in the system, including categories of users and the purposes of such uses:

General routine uses A, C, D, G, and I apply to this system. Records may also be used for background information to determine qualifications for appointment and reappointment, for compiling information for news releases and other publications, and for recording correspondence concerning the governors.

Policies and practices for storing, retrieving, accessing, retaining, and disposing of records in the system:

Storage. Records are stored in paper and electronic form. Electronic records are stored in the Federal Reserve Integrated Records Management Architecture (FIRMA).

Retrievability. Records can be retrieved by name.

Access Controls. Access to records is limited to those whose official duties require it. Paper records are secured by lock and key and electronic records are password protected.

Retention and disposal. All records are permanent.

System manager and address:

Secretary of the Board, Office of the Secretary, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

The information is provided by individual to whom the record pertains, his or her incoming correspondence, and staff response thereto.

Exemptions claimed for the system:

Certain portions of this system of records may be exempted from 5 U.S.C. 552a(c)(3), (d), (e)(1), (e)(4)(G), (H), and (I), and (f) of the Privacy Act pursuant to 5 U.S.C. 552a(k)(5).

BGFRS-11

System name:

FRB—Official General Files.

System location:

Board of Governors of the Federal Reserve System, 20th Street and Constitution Avenue, NW., Washington, DC 20551.

Categories of individuals covered by the system:

Correspondents with the Board and System personnel.

Categories of records in the system:

Incoming and outgoing correspondence concerning Board business, including records relating to System personnel in official capacities such as instructors, consultants, and Board representatives to various committees, conferences, etc.

Authority for maintenance of the system:

Sections 10 and 11 of the Federal Reserve Act (12 U.S.C. 244 and 248).

Purpose(s):

These records are collected and maintained to document important transactions between Board members, officials, and staff and with the White House, Congress, other federal agencies, foreign financial institutions, professional groups, and the public.

Routine uses of records maintained in the system, including categories of users and the purposes of such uses:

General routine uses A, C, D, G, and I apply to this system. Records may also be used for reference purposes in preparing responses to inquiries from the public and used in recording official duties of System personnel.

Policies and practices for storing, retrieving, accessing, retaining, and disposing of records in the system:

Storage. Records are stored in paper and electronic form. Electronic records are stored in the Federal Reserve Integrated Records Management Architecture (FIRMA).

Retrievability. Records can be retrieved by name.

Access Controls. Access to records is limited to those whose official duties require it. Paper records are secured by lock and key and electronic records are password protected.

Retention and disposal. All records are retained for the appropriate period ranging from three years to permanently.

System manager and address:

Secretary of the Board, Office of the Secretary, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, his or her incoming correspondence, and staff response thereto.

Exemptions claimed for the system:

Certain portions of this system of records may be exempted from 5 U.S.C. 552a(c)(3), (d), (e)(1), (e)(4)(G), (H), and (I), and (f) of the Privacy Act pursuant to 5 U.S.C. 552a(k)(5).

BGFRS-12

System name:

FRB—Bank Officers Personnel System.

System location:

Board of Governors of the Federal Reserve System, 20th Street and Constitution Avenue, NW., Washington, DC 20551.

Categories of individuals covered by the system:

Past and present Federal Reserve Bank officers.

Categories of records in the system:

Personnel information (including demographic, academic, professional, and employment information) on Reserve Bank officers, as well as personnel actions that have occurred during their employment with the Federal Reserve Banks, including the Federal Reserve Information Technology office and the Office of Employee Benefits.

Authority for maintenance of the system:

Sections 4, 10, 11 and 21 of the Federal Reserve Act (12 U.S.C. 247, 248, 307, and 485).

Purpose(s):

These records are collected and maintained to assist the Board in its oversight role of the Federal Reserve Banks.

Routine uses of records maintained in the system, including categories of users and the purposes of such uses:

General routine uses A, B C, D, F, G, H, and I apply to this system. Records may also be used to provide reports, such as the Board's Annual Report, to Congress, agencies, and the public on characteristics of the Federal Reserve Bank officer work force.

Policies and practices for storing, retrieving, accessing, retaining, and disposing of records in the system:

Storage. Records are stored in paper and electronic form.

Retrievability. Records can be retrieved by name or employee identification number.

Access Controls. Access is limited to those whose official duties require it. Paper records are secured by lock and key and electronic records are password protected.

Retention and disposal. All records are retained until no longer needed for administrative or reference purposes.

System manager and address:

Division Director, Reserve Bank Operations and Payment Systems, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, Federal Reserve Bank staff, and personnel systems.

Exemptions claimed for the system:

None.

BGFRS-13

System name:

FRB—Federal Reserve System Bank Supervision Staff Qualifications.

System location:

Board of Governors of the Federal Reserve System, 20th Street and Constitution Avenue, NW., Washington, DC 20551.

Some information is collected and maintained, on behalf of the Board, by the twelve Federal Reserve Banks.

Categories of individuals covered by the system:

Past and present bank supervision staff (including bank examiners) employed by the Federal Reserve System.

Categories of records in the system:

Information relating to the skills, qualifications, training, and experience of bank supervision staff, and information regarding past and present assignments and current availability of individual bank supervision staff employees.

Authority for maintenance of the system:

Sections 10, 11, and 21 of the Federal Reserve Act (12 U.S.C. 244, 248, and 483).

Purpose(s):

These records are collected and maintained to assist the Board in performing its statutory duty to examine state member banks, bank holding companies, financial holding companies and affiliates of such institutions. The information is used to assist in career development of examiners and other bank supervision staff. The information also aids the Board and the Reserve Banks in selecting qualified bank supervision staff for particular assignments.

Routine uses of records maintained in the system, including categories of users and the purposes of such uses:

General Routine uses A, B, C, D, E, F, G, H, and I apply to this system. Records may also be used to disclose information to Federal Reserve Banks in connection with work performed on behalf of the Board or training provided by the Federal Reserve System.

Policies and practices for storing, retrieving, accessing, retaining, and disposing of records in the system:

Storage. Records are stored in paper and electronic form.

Retrievability. Records can be retrieved by the name or a unique assigned identification number for the individual on whom they are maintained.

Access Controls. Access to records is limited to those whose official duties require it. Paper records are secured by lock and key and electronic records are password protected.

Retention and disposal. All records are made inactive when the employee leaves the Federal Reserve System and are retained for five years after the record becomes inactive.

System managers and address:

Division Director, Banking Supervision and Regulation, and Division Director, Consumer and Community Affairs, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains and personnel and training records regarding the individual that are maintained by the Board and Federal Reserve Banks.

Exemptions claimed for the system:

Certain portions of this system of records may be exempt from 5 U.S.C. 552a(c)(3), (d), (e)(1), (e)(4)(G), (H), and (I), and (f) of the Privacy Act pursuant to 5 U.S.C. 552a(k)(5).

BGFRS-14

System name:

FRB—General File of Federal Reserve Bank and Branch Directors.

System location:

Board of Governors of the Federal Reserve System, 20th Street and Constitution Avenue, NW., Washington, DC 20551.

Categories of individuals covered by the system:

Past and present Federal Reserve Bank and Branch directors.

Categories of records in the system:

Biographies of past and present Federal Reserve Bank and Branch directors, oaths of office, resignations, and miscellaneous correspondence.

Authority for maintenance of the system:

Sections 3, 4, 11 and 21 of the Federal Reserve Act (12 U.S.C. 248, 302, 485, and 521).

Purpose(s):

These records are collected and maintained to assist the Board in its oversight of the selection of Federal Reserve Bank and Branch Directors.

Routine uses of records maintained in the system, including categories of users and the purposes of such uses:

General routine uses A, C, D, G, and I apply to this system. Records may be used as background information for determining qualifications for appointment and reappointment, for compiling information for news releases and other publications, and for recording correspondence concerning such persons.

Policies and practices for storing, retrieving, accessing, retaining, and disposing of records in the system:

Storage. Records are stored in paper and electronic form.

Retrievability. Records can be retrieved by name.

Access Controls. Access to records is limited to those whose official duties require it. Paper records are secured by lock and key and electronic records are password protected.

Retention and disposal. All records are retained for at least five years after the annual cutoff, and then destroyed or deleted when no longer needed for administrative or reference purposes.

System manager and address:

Secretary of the Board, Office of the Secretary, Board of Governors of Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, his or her incoming correspondence, and staff response thereto.

Exemptions claimed for the system:

Certain portions of this system of records may be exempt from 5 U.S.C. 552a(c)(3), (d), (e)(1), (e)(4)(G), (H), and (I), and (f) of the Privacy Act pursuant to 5 U.S.C. 552a(k)(5).

BGFRS-16

System name:

FRB—Regulation U Reports of Nonbank Lenders.

System location:

Board of Governors of the Federal Reserve System, 20th Street and Constitution Avenue, NW., Washington, DC 20551.

Categories of individuals covered by the system:

Individuals (other than banks, brokers, and dealers) who extend credit in specified amounts secured by margin stock.

Categories of records in the system:

Responses to G-1, G-2, and G-4 Reports filed by persons registered pursuant to Regulation U, 12 CFR 221, including identifying information about the registrant such as name, address, securities credit, and balance sheet assets and liabilities.

Authority for maintenance of the system:

Sections 3, 7, 17, and 23 of the Securities Exchange Act of 1934 (15 U.S.C. 78c, 78g, 78q, and 78w), and Regulation U (12 CFR 221).

Purpose(s):

These records are collected and maintained to assist the Board in maintaining a current list of persons registered as margin lenders under the securities laws.

Routine uses of records maintained in the system, including categories of users and the purposes of such uses:

General routine uses A, C, D, G, and I apply to this system. Records may be used:

1. To disclose, upon request, the name of a registered individual who extends credit secured by margin stock; and

2. To disclose information, when appropriate, to foreign governmental authorities in accordance with law, and formal or informal international agreements.

Policies and practices for storing, retrieving, accessing, retaining, and disposing of records in the system:

Storage. Records are stored in paper and electronic form.

Retrievability. Records can be retrieved by the individual's name.

Access Controls. Access to records is limited to those whose official duties require it. Paper records are secured by lock and key and electronic records are password protected.

Retention and disposal. The electronic images of the G-1 and G-2 Reports are retained for fifteen years after approval of application, then destroyed when no longer needed for reference. The paper files are destroyed upon verification of the electronic image and/or when no longer needed for reference. The G-4 Reports are retained five years, then destroyed when no longer needed for administrative purposes. If the G-4 Reports are received in paper, but then entered into an electronic system at the Board, the paper record may be destroyed upon verification of the database.

System manager and address:

Division Director, Banking Supervision and Regulation, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains.

Exemptions claimed for the system:

None.

BGFRS-17

System name:

FRB—Municipal or Government Securities Principals and Representatives.

System location:

Board of Governors of the Federal Reserve System, 20th Street and Constitution Avenue, NW., Washington, DC 20551.

Categories of individuals covered by the system:

Persons who are, or seek to be, municipal or government securities principals or municipal or government securities representatives associated with a municipal or government securities dealer that is a state member bank of the Federal Reserve System or a United States branch of a foreign bank, or a subsidiary or a department or division thereof.

Categories of records in the system:

Identifying information; educational, employment, and disciplinary information; scores on professional qualification examinations; and, where applicable, information regarding termination of employment of individuals covered by the system. Identifying information includes name, address, date and place of birth, and may include Social Security number.

Authority for maintenance of the system:

Sections 3, 15B, 15C, 17, and 23 of the Securities Exchange Act of 1934 (15 U.S.C. 78c, 78o-4, 78o-5, 78q, and 78w), section 11 of the Federal Reserve Act (12 U.S.C. 248), and Executive Order 9397.

Purpose(s):

These records are collected and maintained to permit the Board to perform its responsibilities under the securities laws with regard to the persons described in this system of records.

Routine uses of records maintained in the system, including categories of users and the purposes of such uses:

General routine uses A, C, D, E, G, and I apply to this system. Records may also be used to disclose information to a federal, state, local, or foreign governmental authority or a self-regulatory organization if necessary in order to obtain information relevant to a Federal Reserve Board inquiry concerning a person who is or seeks to be associated with a municipal or government securities dealer.

Policies and practices for storing, retrieving, accessing, retaining, and disposing of records in the system:

Storage. Records are stored in paper and electronic form.

Retrievability. Records can be retrieved by the individual's name.

Access Controls. Access to records is limited to those whose official duties require it. Paper records are secured by lock and key and electronic records are password protected.

Retention and disposal. The retention period for these records is currently under review. Until the review is completed, these records will not be destroyed.

System manager and address:

Division Director, Banking Supervision and Regulation, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains as well as municipal or government securities dealers with whom the individuals are associated, and federal, state, local, and foreign governmental authorities, and self-regulatory organizations which regulate the securities industry.

Exemptions claimed for the system:

None.

BGFRS-18

System name:

FRB—Consumer Complaint Information.

System location:

Board of Governors of the Federal Reserve System, 20th Street and Constitution Avenue, NW., Washington, DC 20551.

Some information is collected and maintained, on behalf of the Board, by the twelve Federal Reserve Banks.

Categories of individuals covered by the system:

Persons who have filed consumer complaints with the Federal Reserve Board or a Federal Reserve Bank, or whose complaint to another agency has been referred to the Federal Reserve Board for review.

Categories of records in the system:

Complaints regarding state-chartered member banks, as well as other financial institutions, individuals, or organizations that are subject to federal banking supervision. The records may contain the name and address of an individual or organization that referred a matter to the Board. Information in these records includes the complainant's name; the name of the financial institution that is the subject of the complaint; the subject matter of the complaint; and the Board's response to the complaint. Supporting records include, but are not limited to, documents supplied by the complainant. If the complaint concerns an institution that is not subject to supervision by the Board, the record may consist of a referral letter to the appropriate supervisory agency.

Authority for maintenance of the system:

Section 11 of the Federal Reserve Act (12 U.S.C. 248); section 5 of the Bank Holding Company Act (12 U.S.C. 1844); and section 18(f) of the Federal Trade Commission Act (15 U.S.C. 57a(f)).

Purpose(s):

These records are collected and maintained to permit the Board to perform its responsibilities under the Federal Reserve Act, the Federal Trade Commission Act, and other consumer protection laws to respond to consumer complaints and inquiries regarding practices by banks and other financial institutions supervised by the Board.

Routine uses of records maintained in the system, including categories of users and the purposes of such uses:

General routine uses A, B, C, D, G, and I apply to this system. Records may also be used:

1. To disclose information to a Board-regulated entity that is the subject of a complaint or inquiry; and

2. To disclose information to third parties to the extent necessary to obtain information that is relevant to the resolution of a complaint or inquiry.

Policies and practices for storing, retrieving, accessing, retaining, and disposing of records in the system:

Storage. Records are stored in paper and electronic form. Electronic records are stored in the Federal Reserve Integrated Records Management Architecture (FIRMA).

Retrievability. Records can be retrieved by consumer name, bank name, Reserve Bank name, or control number.

Access Controls. Access to records is limited to those whose official duties require it. Paper records are secured by lock and key and electronic records are password protected.

Retention and disposal. All records are retained for five years, then destroyed when no longer needed for administrative purposes.

System manager and address:

Division Director, Consumer and Community Affairs, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual who initiates complaint (or his or her representative, which may include a member of Congress or an attorney); appropriate federal, state, or local regulatory and enforcement agencies; and institutions or individuals that are the subject of the complaint.

Exemptions claimed for the system:

Certain portions of this system of records may be exempt from 5 U.S.C. 552a(c)(3), (d), (e)(1), (e)(4)(G), (H), and (I), and (f) of the Privacy Act pursuant to 5 U.S.C. 552a(k)(2).

BGFRS-20

System name:

FRB—Survey of Consumer Finances.

System location(s):

Board of Governors of the Federal Reserve System, 20th Street and Constitution Avenue, NW., Washington, DC 20551.

Information is also collected and maintained on behalf of the Board, by National Opinion Research Center at the University of Chicago (NORC) at 1155 East 60th Street, Chicago, IL 60637.

Categories of individuals covered by the system:

Voluntary response to the Board's periodic survey of U.S. households on the current state of households' finances (SCF).

Categories of records in the system:

NORC, the independent contractor for survey data collection, holds three types of files:

(a) Answers given by survey participants in the course of the administration of the survey questionnaire. No identifying information is included in this category.

(b) Answers given by interviewers to questions about the administration, or attempted administration, of the survey interview, and answers given by interviewers to questions about the area around the sample addresses. No identifying information is included in this category.

(c) A control file containing the name, address, other identifying or locating characteristics of members of the survey sample, and technical information describing survey participation.

The Board holds five types of files:

(a) All information included in (1)(a) and (1)(b).

(b) A control file containing general geographic characteristics and technical information describing survey participation. No identifying information is included in this category.

(c) For a part of the survey sample, information from statistical records derived from individual tax returns, including a Social Security number but containing no other identifying information.

(d) Files of information matched to the survey data by high-level characteristics, such as general location, occupation, banking market, etc. No identifying information is included in this category.

Authority for maintenance of the system:

Section 2A of the Federal Reserve Act (12 U.S.C. 225a) and 15 U.S.C. 1601, note.

Purpose(s):

The records are collected and maintained for statistical purposes only in order to structure, conduct, and process the SCF. The SCF is a key part of the national statistical system and it provides a basis for a wide variety of government, academic, and other statistical research.

Routine uses of records maintained in the system, including categories of users and the purpose of such uses:

Data collected as a part of the SCF are protected under the Confidential Information Protection and Statistical Efficiency Act (CIPSEA). To the extent that disclosure is permitted under CIPSEA, records may be disclosed for general routine uses C and I. Records may also be used:

1. Prior to the completion of data collection, the survey contractor uses information in the system to devise and attempt to execute a plan to request an interview with all members of the survey sample; access to such information is available only to those involved in the sample design and its implementation in the field.

2. Upon completion of data collection, access by the contractor to the system is limited to the specific information necessary to complete the initial processing of the data and to respond to requests from survey participants.

3. At the Board, access to data from the system is available only to staff members who have the primary responsibility for conducting and processing the survey.

Policies and practices for storing, retrieving, accessing, retaining, and disposing of records in the system:

Storage. Records are stored in paper and electronic form.

Retrievability. Records of answers provided by survey participants or interviewers can be retrieved by an identification number (which is generated for administrative purposes). Control file records can be retrieved by all categories of identifying information and above noted identification number.

Access Controls. Access to records is limited to those whose official duties, consistent with CIPSEA, require it. All records are secured by such controls as required to comply with CIPSEA.

Retention and disposal. All input information is retained at least six months after the accuracy of the database has been verified and destroyed when no longer needed for administrative or reference purposes. The final version of the SCF data set is one statistically altered to protect the identity of the survey participants; this data set is placed in the public domain. A data set without these alterations is retained as a restricted version within the Microeconomics Surveys Unit at the Federal Reserve Board.

Systems manager and address:

Head, Microeconomic Surveys Unit, Financial Studies Section, Division of Research and Statistics, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by survey participants. Other information about the steps taken to obtain an interview, the progress of the interview, and the general characteristics of the neighborhood of the sample address, is obtained from the survey interviewers. Technical sample design information for a geographically based part of the survey sample is obtained from NORC; for sample members in the other part of the sample, statistical records derived from individual tax returns are obtained from the Statistics of Income Division of the Internal Revenue Service.

Exemptions claimed for the system:

None.

BGFRS-21

System name:

FRB—Supervisory Enforcement Actions and Special Examinations Tracking System.

System location:

Board of Governors of the Federal Reserve System, 20th Street and Constitution Avenue, NW., Washington, DC 20551.

Some information is collected and maintained, on behalf of the Board, by the twelve Federal Reserve Banks.

Categories of individuals covered by the system:

Directors, officers, employees, shareholders, agents, independent contractors, and persons participating in the conduct of the affairs of entities regulated by the Board (“institution-affiliated parties”) who may have been involved in suspected criminal activity, suspicious activities under the Bank Secrecy Act, potential or actual violations of law, or unsafe and unsound banking practices, and other individuals who may have been involved in suspected criminal activity, suspicious activities under the Bank Secrecy Act, violations of law, or unsafe or unsound banking practices referenced in documents received or prepared by the Board in the course of exercising its supervisory functions.

Categories of records in the system:

Inter- and intra-agency correspondence, memoranda, reports, and notes. The records stored in Supervisory Enforcement Actions and Special Examinations Tracking System (SEASE) contain information identifying and/or describing particular financial institutions and individuals; suspected criminal activity, suspicious activity under the Bank Secrecy Act, violations of law, or unsafe and unsound banking practices; dollar amounts; dates of suspicious activity, violation, or unsafe and unsound banking practice; and witnesses. The records may include the following information about current or former institution-affiliated parties or other individuals: Name; date of birth; employment relationship to institution; employment termination date; social security number or taxpayer identification number; current employer; name(s) of the financial institution that the individual is/was affiliated with in connection with alleged violations of law, suspicious activity, or unsafe and unsound banking practices; information regarding alleged violations of law, suspicious activity, or unsafe and unsound banking practices; and examination, supervisory, investigatory and/or enforcement comments in connection with alleged violations of law, suspicious activity, or unsafe and unsound banking practices. SEASE also tracks a number of other dates including case opening, approvals of case management and enforcement decisions, and effective dates and termination dates of enforcement actions.

Authority for maintenance of the system:

The Federal Reserve Act (12 U.S.C. 221 et seq.); the Change in Bank Control Act (12 U.S.C. 1817(j)); the Bank Merger Act (12 U.S.C. 1828(c)); the Federal Deposit Insurance Act (12 U.S.C. 1811 et seq.); the Bank Holding Company Act (12 U.S.C. 1841 et seq.); the Bank Service Company Act (12 U.S.C. 1861 et seq.); the International Banking Act (12 U.S.C. 3101 et seq.); the consumer protection laws regarding practices by banks and other financial institutions supervised and regulated by the Board; the Board's Regulations (12 CFR 201 et seq.); and Executive Order 9397.

Purpose(s):

These records are collected and maintained to serve as a central repository and tracking system for Federal Reserve System investigatory and enforcement actions.

Routine uses of records maintained in the system, including categories of users and the purposes of such uses:

General routine uses A, C, D, G, and I apply to this system. Records may also be used:

1. To disclose to federal financial regulatory agencies and FinCEN information relevant to their enforcement authority;

2. To disclose information to third parties during the course of an investigation to the extent necessary to obtain information pertinent to the investigation; and

3. To disclose information with regard to formal enforcement actions pursuant to 12 U.S.C. 1818(u), which requires the Board to publish and make available certain enforcement documents.

Policies and practices for storing, retrieving, accessing, retaining, and disposing of records in the system:

Storage. Records are stored in paper and electronic form.

Retrievability. Records can be retrieved by indexes of data fields, including name of financial institution, Federal Reserve Bank District, and individuals' names, social security number or taxpayer identification number, date of birth, employment relationship, employment termination date, and current employer.

Access Controls. Access to records is limited to those whose official duties require it. Paper records are secured by lock and key and electronic records are password protected.

Retention and disposal. All records are retained with related records and deleted when no longer needed for administrative or reference purposes.

System manager and address:

Special Counsel (Manager), Supervisory Enforcement Actions Section, Banking Supervision and Regulation, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by various sources, including, inter alia, law enforcement and other agency personnel involved in sending inquiries to the Board, documents received by the Board in the course of executing the Board's supervisory responsibilities, and reports and forms filed by individuals to whom the record pertains. The information maintained by FinCEN is compiled from SAR and related historical and updating forms compiled by financial institutions, the Board, and the other federal financial regulatory agencies for law enforcement purposes.

Exemptions claimed for the system:

Certain portions of this system of records may be exempt from 5 U.S.C. 552a(c)(3), (d), (e)(1), (e)(4)(G), (H), and (I), and (f) of the Privacy Act pursuant to 5 U.S.C. 552a(k)(2).

BGFRS-23

System name:

FRB—Freedom of Information Act and Privacy Act Case Tracking and Reporting System.

System location:

Board of Governors of the Federal Reserve System, 20th Street and Constitution Avenue, NW., Washington, DC 20551.

Categories of individuals covered by the system:

Individuals who have submitted requests and individuals whose records are requested by others under the provisions of the Freedom of Information Act (FOIA) or the Privacy Act (PA), and individuals who have submitted feedback regarding the FOIA or PA programs and the processing of FOIA or PA requests.

Categories of records in the system:

For individuals who have submitted requests, the following categories of records are maintained in this system: The log number assigned to the request, the name and address of a requester, the date of the request, the date a response is due, the date of the determination letter, the date responsive documents were mailed to requester, a brief description of the information requested, the names of Board staff to whom the request was assigned for processing, fee data, and other information used for tracking and to compile the FOIA Annual Report and other required reports. For individuals who have submitted feedback, the following categories of records are maintained in this system: The name and address of the individuals submitting the feedback, the date of the submission, the content of the feedback, a description of the subject matter of the feedback, the name of the Board employee who received the feedback and the response to the feedback.

Authority for maintenance of the system:

FOIA (5 U.S.C. 552), PA (5 U.S.C. 552a), and 12 CFR 261 and 261a.

Purpose(s):

These records are collected and maintained to assist the Board in carrying out its responsibilities under the FOIA and PA.

Routine uses of records maintained in the system, including categories of users and the purposes of such uses:

General routine uses C and I apply to this system. Records may also be used:

1. To provide information to another federal agency, which furnished information responsive to a request, for the purpose of making a decision regarding access or amendment to the responsive information; and

2. To release information to the news media and the public, unless it is determined that release of specific information in the context of a particular case would constitute an unwarranted invasion of personal privacy.

Policies and practices for storing, retrieving, accessing, retaining, and disposing of records in the system:

Storage. Records are stored in paper and electronic form.

Retrievability. Records can be retrieved by name of requester, log number assigned to the request, subject matter of the request, or any other field of information that is collected.

Access Controls. Access is limited to those whose official duties require it. Paper records are secured by lock and key and electronic records are password protected.

Retention and disposal. All records are retained for the appropriate period which ranges from two years after date of reply to six years after the final action by the agency or final adjudication by courts, whichever is later.

System manager and address:

Manager, Freedom of Information Office, Office of the Secretary, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual making the request or submitting feedback regarding the FOIA or PA program, other agencies referring requests for access to or correction of records originating at the Board, and Board employees engaged in processing or making determinations on the requests or responding to the feedback.

Exemptions claimed for the system:

None.

BGFRS-24

System name:

FRB—EEO General Files.

System location:

Board of Governors of the Federal Reserve System, 20th Street and Constitution Avenue, NW., Washington, DC 20551.

Categories of individuals covered by the system:

Past and present employees of the Board.

Categories of records in the system:

Self-identification reports of current and former employees regarding race, national origin, sex, and disability; identification by Board staff regarding the race, national origin, sex, and disability for those employees who refuse to voluntarily provide the information; and EEO-related training records.

Authority for maintenance of the system:

Rehabilitation Act of 1973 (29 U.S.C. 791); Title VII of the Civil Rights Act (42 U.S.C. 2000e et seq.); Equal Pay Act (29 U.S.C. 206); sections 10 and 11 of the Federal Reserve Act (12 U.S.C. 244 and 248); and the Notification and Federal Employee Antidiscrimination and Retaliation Act of 2002 (5 U.S.C. 2301, note).

Purpose(s):

These records are collected and maintained to assist the Board in carrying out its responsibilities under the Rehabilitation Act of 1973, Title VII of the Civil Rights Act, and other nondiscrimination statutes.

Routine uses of records maintained in the system, including categories of uses and the purposes of such uses:

General routine uses A, B, C, D, F, G and I apply to this system. Records may also be used to disclose information to management as a data source for production of summary descriptive statistics and analytical studies in support of the function for which the records are collected and maintained, or for related personnel management functions or manpower studies and may also be utilized to respond to investigative or legal requests for statistical information (without personal identification of individuals).

Policies and practices for storing, retrieving, accessing, retaining, and disposing of records in the system:

Storage. Records are stored in paper and electronic form.

Retrievability. Records can be retrieved by the individual's name.

Access Controls. Access to records is limited to those whose official duties require it. Paper records are secured by lock and key and electronic records are password protected.

Retention and disposal. All records are retained for three years, or when superseded or obsolete.

System manager and address:

EEO Programs Director, Office of the Staff Director for Management, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

The information is provided by the individual to whom the record pertains and employees responsible for administering the Board's EEO program.

Exemptions claimed for the system:

None.

BGFRS-25

System name:

FRB—Multi-Rater Feedback Records.

System location:

Board of Governors of the Federal Reserve System, 20th Street and Constitution Avenue, NW., Washington, DC 20551.

The completed multi-rater questionnaires and the resulting feedback reports are collected and maintained, on behalf of the Board, by the Hay Group at SunGard Data Systems Inc., 680 East Swedesford Road, Wayne, Pennsylvania 19087. Based on the information provided by the completed questionnaires, the contractor provides an individual feedback report to the individual being evaluated. With the exception of the feedback report that is provided to the individual being evaluated, no individually identifiable information is maintained on the Board's premises.

Categories of individuals covered by the system:

Past and present employees of the Board who have participated in the multi-rater feedback program.

Categories of records in the system:

Questionnaires completed by the individual being evaluated and his or her respondents, analyses of the questionnaires, and feedback reports compiled by the contractor based upon the analyses.

Authority for maintenance of the system:

Sections 10 and 11 of the Federal Reserve Act (12 U.S.C. 244 and 248).

Purpose(s):

These records are collected and maintained to assist the Board in administering its personnel functions and improving the management skills of its employees.

Routine uses of records maintained in the system, including categories of users and the purposes of such uses:

General routines uses A, C, D, F, G, H, and I apply to this system. Records may also be used to disclose information to an arbitrator to resolve disputes under a negotiated grievance procedure or to officials of labor organizations recognized under applicable law, regulation, or policy when relevant and necessary to their duties of exclusive representation concerning personnel policies, practices, and matters affecting working conditions.

Policies and practices for storing, retrieving, accessing, retaining, and disposing of records in the system:

Storage. Records are stored in paper and electronic form.

Retrievabililty. Records can be retrieved by the name of the individual being evaluated.

Access Controls. The contractor maintains strict confidentiality of the information. Information in these files is not provided to Board employees, except the individual being evaluated.

Retention and disposal. All records are retained for four years.

System manager and address:

Training Supervisor, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual and his or her respondents, which may include the individual's peers and supervisors.

Exemptions claimed for the system:

Certain portions of this system of records may be exempted from 5 U.S.C. 552a(c)(3), (d), (e)(1), (e)(4)(G), (H), and (I), and (f) of the Privacy Act pursuant to 5 U.S.C. 552a(k)(5).

BGFRS-26

System name:

FRB—Employee Relations Records.

System location:

Board of Governors of the Federal Reserve System, 20th Street and Constitution Avenue, NW., Washington, DC 20551.

Categories of individuals covered by the system:

Past and present Board employees (including special employees) with work-related issues that have involved the employee relations specialists in the Human Resources Function of the Management Division.

Categories of records in the system:

Written communications and related documents involved in adjusting work-related problems, including copies of records included in other systems of records, including Performance Management Program (PMP) reports and related documentation, records of disciplinary actions, and records related to the Personal Placement Program.

Authority for maintenance of the system:

Sections 10 and 11 of the Federal Reserve Act (12 U.S.C. 244 and 248).

Purpose(s):

These records are collected and maintained to assist the Board in administering its personnel functions, and to assist employees in resolving work-related issues.

Routine uses of records maintained in the system, including categories of users and the purposes of such uses:

General routine uses A, B, C, D, E, F, G, H, and I apply to this system. Records may also be used to disclose information to any source from which additional information is requested (to the extent necessary to identify the individual, inform the source of the purpose(s) of the request, and to identify the type of information requested), when necessary to obtain information relevant to a Board decision to hire or retain an employee, issue a security clearance, conduct a security or suitability investigation of an individual, classify jobs, let a contract, or issue a license, grant, or other benefits.

Policies and practices for storing, retrieving, accessing, retaining, and disposing of records in the system:

Storage. Records are stored in paper and electronic form. Electronic records are stored in the Federal Reserve Integrated Records Management Architecture (FIRMA).

Retrievabililty. Records can be retrieved by the names of the individuals on whom they are maintained or by employee identification number.

Access Controls. Access is limited to those whose official duties require it. Paper records are secured by lock and key and electronic records are password protected.

Retention and disposal. All records relating to an employee's performance are retained for a period of ten years. All other records are retained for the appropriate period in accordance with the time period set forth in National Archives' General Records Schedule number 1.

System manager and address:

Manager, Staffing, ER and Clearances, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; the individual's managers, supervisors, and officers; employees and officers in the Human Resources Function of the Management Division.

Exemptions claimed for the system:

None.

BGFRS-27

System name:

FRB—Performance Management Program Records.

System location:

Board of Governors of the Federal Reserve System, 20th Street and Constitution Avenue, NW., Washington, DC 20551.

Final Performance Management Program (PMP) reports are maintained by the Human Resources Function of the Management Division. Supporting documentation for the reports is maintained in the division where the employee works or worked.

Categories of individuals covered by the system:

Past and present Board employees.

Categories of records in the system:

Completed PMP reports, attachments, and supporting documentation; submissions and written suggestions by the subject employee; and records of PMP objective-setting sessions.

Authority for maintenance of the system:

Sections 10 and 11 of the Federal Reserve Act (12 U.S.C. 244 and 248).

Purpose(s):

These records are collected and maintained to assist the Board in administering its personnel functions.

Routine uses of records maintained in the system, including categories of users and the purposes of such uses:

General routine uses A, B, C, D, E, F, G, H, and I apply to this system. Records may also be used to disclose information to public and private organizations, including news media, which grant or publicize employee awards.

Policies and practices for storing, retrieving, accessing, retaining, and disposing of records in the system:

Storage. Records are stored in paper and electronic form. Electronic records are stored in the Federal Reserve Integrated Records Management Architecture (FIRMA).

Retrievabililty. Records can be retrieved by the names of the individuals on whom they are maintained.

Access Controls. Access to records is limited to those whose official duties require it. Paper records are secured by lock and key and electronic records are password protected.

Retention and disposal. All records are retained for a period of ten years.

System manager and address:

Associate Director, Human Resources, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, and the individual's manager(s).

Exemptions claimed for the system:

None.

BGFRS-28

System name:

FRB—Employee Assistance Program Records.

System location:

This information is collected and maintained, on behalf of the Board, by Cope, Inc. at 1129 G Street, NW., Suite 550, Washington, DC 20005.

Categories of individuals covered by the system:

Past and present employees, and their spouses and dependent children, who have consulted with, or been referred to, the Employee Assistance Program (EAP).

Categories of records in the system:

Case files developed for each client seen by a counselor, including notes of each contact between the client and counselor, an intake form, the counselor's assessment, the kind of services being provided (including referrals), any release forms signed, and follow-up information on the outcome of the consultation.

Authority for maintenance of the system:

Sections 10 and 11 of the Federal Reserve Act (12 U.S.C. 244 and 248) and Executive Order 12564.

Purpose(s):

These records are collected and maintained to assist the Board in providing a safe and healthy working environment, and to comply with Executive Order 12564.

Routine uses of records maintained in the system, including categories of users and the purposes of such uses:

Records may be used:

1. To disclose information to a new employee assistance contractor following a contract transition for the services; and

2. To disclose information to family members or guardians, the appropriate law enforcement officers, security services, or child protective services, or other appropriate persons:

(a) Where there is a reason to suspect abuse or neglect of children or other vulnerable persons,

(b) Where the individual using the EAP services poses a serious threat to the health or safety of himself or herself or another individual, or

(c) Where the individual using EAP services presents a clear and present danger to the safety and security of the community, workplace, or nation.

Policies and practices for storing, retrieving, accessing, retaining, and disposing of records in the system:

Storage. Records are stored in paper form.

Retrievabililty. Records can be retrieved by the name of the individual.

Access Controls. Only staff of the EAP have access to the files, which are maintained on the premises of the contractor hired to administer the program.

Retention and disposal. All records are retained for three years after the termination of counseling.

System manager and address:

Employee Assistance Program Administrator, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; the EAP counselor; the Board's EAP administrator; an employee's physical or mental health care provider or counselor; medical institutions; the contractor administering the Drug-Free Workplace Plan; and Federal Reserve System personnel records.

Exemptions claimed for the system:

None.

BGFRS-29

System name:

FRB—Benefits Records.

System location:

Board of Governors of the Federal Reserve System, 20th Street and Constitution Avenue, NW., Washington, DC 20551.

Some information is collected and maintained, on behalf of the Board, by its benefits contractors.

Categories of individuals covered by the system:

Past and present Board employees and their named beneficiaries.

Categories of records in the system:

All forms relating to employee benefits, records relating to claims filed for benefits, and memoranda relating to individuals' benefits. These benefits include health insurance, dental plan, life insurance, disability coverage, accident insurance, flexible spending accounts, premium conversion accounts, voluntary plans (i.e., Auto Insurance), retirement and thrift plans, and any other benefits offered by the Board.

Authority for maintenance of the system:

Sections 10 and 11 of the Federal Reserve Act (12 U.S.C. 244 and 248).

Purpose(s):

These records are collected and maintained to administer the Board's benefits programs for its employees and assist in personnel management.

Routine uses of records maintained in the system, including categories of users and the purposes of such uses:

General routine uses A, B, C, D, F, G, H, and I apply to this system. Records may also be used:

1. To disclose information to the Board's Thrift Plan, the Board's Group Life Insurance administrators, Department of Labor, Department of Veterans Affairs, Social Security Administration, Department of Defense, a Federal Reserve Bank, or any federal agencies that have special civilian employee retirement programs; or to a national, state, county, municipal, or other publicly recognized charitable or income security administration agency (e.g., state unemployment-compensation agencies), when necessary to adjudicate a claim under the retirement, insurance, unemployment, or health benefits programs of the Board, a Federal Reserve Bank, or any agency cited above, or to an agency to conduct an analytical study or audit of benefits being paid under such programs;

2. To disclose to the Office of Personnel Management's Federal Employees Group Life Insurance Program information necessary to verify election, declination, or waiver of regular and/or optional life insurance coverage, eligibility for payment of a claim for life insurance, or a Thrift Savings Program (TSP) election change and designation of beneficiary;

3. To disclose to health insurance carriers that provide a health benefits plan under the Federal Employees Health Benefits Program information that is necessary to verify eligibility for payment of a claim for health benefits; and

4. To disclose information to the executor of an individual's estate, the government entity probating a will, a designated beneficiary, or to any person who is responsible for the care of an individual to the extent necessary when the individual to whom a record pertains is deceased, or mentally incompetent, or under other legal disability, and to disclose information to an individual's emergency contact when necessary to assist that individual in obtaining any employment benefit or any working condition, such as accommodations under the Rehabilitation Act of 1973.

Policies and practices for storing, retrieving, accessing, retaining, and disposing of records in the system:

Storage. Records are stored in paper and electronic form. Electronic records are stored in the Federal Reserve Integrated Records Management Architecture (FIRMA).

Retrievabililty. Records can be retrieved by the names of the individuals on whom they are maintained.

Access Controls. Access is limited to those whose official duties require it. Paper records are secured by lock and key and electronic records are password protected.

Retention and disposal. Records regarding transferred employees are transferred to the employee's new agency. Other records are retained for sixty-five years after the employee's separation from Board service.

System manager and address:

Manager, Payroll, Compensation and Benefits, Management Division, Board of Governors of the Federal Reserve System, 20th and Constitution, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, the benefit provider, and staff of Human Resources in the Management Division.

Exemptions claimed for the system:

None.

BGFRS-30

System name:

FRB—Academic Assistance Program Files.

System location:

Board of Governors of the Federal Reserve System, 20th Street and Constitution Avenue, NW., Washington, DC 20551.

The primary files are maintained by the Human Resources Function of the Management Division. Supporting documentation may be maintained in the division where the employee works or worked.

Categories of individuals covered by the system:

Past and present Board employees.

Categories of records in the system:

Applications for academic assistance; descriptions of course work by at universities; documents relating to requests for exceptions to sections of the Academic Assistance Policy; reimbursement documentation for textbooks; and a database that tracks all courses applied for, completed, and reimbursed.

Authority for maintenance of the system:

Sections 10 and 11 of the Federal Reserve Act (12 U.S.C. 244 and 248).

Purpose(s):

These records are collected and maintained to assist the Board in its personnel management and in providing training and educational opportunities to its employees.

Routine uses of records maintained in the system, including categories of users and the purposes of such uses:

General routine uses A, B, C, D, F, G, H, and I apply to this system.

Policies and practices for storing, retrieving, accessing, retaining, and disposing of records in the system:

Storage. Records are stored in paper and electronic form.

Retrievabililty. Records can be retrieved by the names of the individuals on whom they are maintained.

Access Controls. Access to these records is limited to those whose official duties require it. Paper records are secured by lock and key and electronic records are password protected.

Retention and disposal. All records are retained for five years or when superseded or obsolete, whichever is sooner.

System manager and address:

Training Supervisor, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains and his or her supervisor.

Exemptions claimed for the system:

None.

BGFRS-31

System name:

FRB—Protective Information System.

System location:

Board of Governors of the Federal Reserve System, 20th Street and Constitution Avenue, NW., Washington, DC 20551.

Categories of individuals covered by the system:

Individuals who are the subject of protective and background investigations by the Board's Protective Services Unit and/or law enforcement agencies where the evaluation of such individuals, in accordance with criteria established by the Protective Services Unit, indicates a need for such investigations; individuals who are the subject of investigative records and reports supplied to the Board's Protective Services Unit by federal, state, and local law enforcement agencies, foreign or domestic, other non-law enforcement governmental agencies, or private institutions and individuals; and individuals who have attempted or solicited unauthorized entry into areas secured by the Board's Protective Services Unit; individuals who have sought unauthorized contact with persons protected by the Protective Services Unit; or individuals who have been involved in incidents or events which relate to the protective functions of the Protective Services Unit.

Categories of records in the system:

Records containing information supplied by federal, state, and local law enforcement agencies, foreign or domestic, other non-law enforcement governmental agencies, private institutions and persons concerning individuals who, because of their current activities, background, prior activities and/or behavior, may be of interest to the Board's Protective Services Unit; records containing information compiled for the purpose of identifying and evaluating individuals who may constitute a threat to the safety of persons or security of areas protected by the Board's Protective Services Unit; and records containing information compiled for the purpose of background investigations of individuals, including but not limited to, passholders, tradesmen, maintenance or service personnel who have access to areas secured by or who may be in close proximity to persons protected by the Board's Protective Services Unit.

Authority for maintenance of the system:

Sections 10 and 11 of the Federal Reserve Act (12 U.S.C. 244 and 248).

Purpose(s):

These records are collected and maintained to assist the Board in providing a safe and secure environment for the chairman, Board members and other Federal Reserve System staff.

Routine uses of records maintained in the system, including categories of users and the purposes of such uses:

General routine uses A, B, C, D, G, and I apply to this system. Records may also be used to disclose information to personnel of federal, state, and local law enforcement agencies, and other governmental agencies foreign or domestic: (a) For the purpose of developing information on subjects involved in protective investigations and evaluations and for the purpose of protective intelligence briefings of personnel of other law enforcement and governmental agencies assisting the Board's Protective Services Unit in the performance of its protective functions; (b) where such disclosures are considered reasonably necessary for the purpose of furthering efforts to investigate the activities of those persons considered to be of protective interest; or (c) where there is a showing of a reasonable need to accomplish a valid law enforcement purpose.

Policies and practices for storing, retrieving, accessing, retaining, and disposing of records in the system:

Storage. Records are stored in paper and electronic form.

Retrievability. Records can be retrieved by name, address, telephone numbers, and other identifying information.

Access controls. Access to records is limited to those whose official duties require it. Paper records are secured by lock and key and electronic records are password protected.

Retention and disposal. The retention for these records is currently under review. Until review is completed, these records will not be destroyed.

System manager and address:

Director, Protective Services Unit, Office of the Staff Director for Management, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

This information is exempt pursuant to 5 U.S.C. 552a(k)(2).

Exemptions claimed for the system:

Certain portions of this system of records may be exempt from 5 U.S.C. 552a(c)(3), (d), (e)(1), (e)(4)(G), (e)(4)(H), (e)(4)(I), and (f) of the Privacy Act pursuant to 5 U.S.C. 552a(k)(2).

BGFRS-32

System name:

FRB—Visitor Registration System.

System location:

Board of Governors of the Federal Reserve System, 20th Street and Constitution Avenue, NW., Washington, DC 20551.

Categories of individuals covered by the system:

All visitors to the buildings and other locations owned or leased by the Board.

Categories of records in the system:

This system contains information concerning individuals who wish to enter a building occupied by the Board. The following categories of records are maintained in this system: The individual's name; date of birth; Social Security number or passport number and country of issue; organization or agency; Board employee visited; purpose of visit; date and time of meeting or visit; e-mail address; and whether the individual has been denied access to the Board. In addition, information derived from law enforcement databases may be included in some paper records.

Authority for maintenance of the system:

Sections 10 and 11 of the Federal Reserve Act (12 U.S.C. 243 and 248), and Executive Order 9397.

Purpose(s):

The records are collected and maintained to permit the Board to provide for the security of its premises and the personnel in those premises by prescreening visitors.

Routine uses of records maintained in the system, including categories of users and the purposes of such uses:

General routine uses A, B, C, D, G, and I apply to this system. Records are also used to disclose information to appropriate federal, state, local, or foreign agencies where disclosure is reasonably necessary to determine whether an individual intending to visit the Board poses a security risk.

Policies and practices for storing, retrieving, accessing, retaining, and disposing of records in the system:

Storage. Records are stored in paper and electronic form.

Retrievability. Records can be retrieved by name, Social Security number, passport number, date of birth, host name, organization, purposes of the visit, and date.

Access Controls. Access to records is limited to those whose official duties require it. Paper records are secured by lock and key and electronic records are password protected.

Retention and disposal. All records are retained for two years after final entry to the Board or two years after date of document, as appropriate.

System manager and address:

Assistant Director, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual who wishes to enter the Board's premises, and, where appropriate, from law enforcement databases.

Exemptions claimed for this system:

Certain portions of this system of records may be exempt from 5 U.S.C. 552a(c)(3), (d), (e)(1), (e)(4)(G), (e)(4)(H), (e)(4)(I), and (f) of the Privacy Act pursuant to 5 U.S.C. 552a(k)(2).

BGFRS-33

System name:

FRB—Telephone Call Detail Records.

System location:

Board of Governors of the Federal Reserve System, 20th Street and Constitution Avenue, NW., Washington, DC 20551.

Categories of individuals covered by the system:

Past and present Board employees, consultants, and contractors who have been assigned a telephone number by the Board.

Categories of records in the system:

Records relating to use of Board telephones to place local and long distance calls; records indicating assignment of telephone numbers to individuals covered by the system; and records relating to location of telephones.

Authority for maintenance of the system:

Sections 10 and 11 of the Federal Reserve Act (12 U.S.C. 243 and 248).

Purpose(s):

These records are collected and maintained to detect and prevent unauthorized use of the Board's telephones.

Routine uses of records maintained in the system, including categories of users and the purposes of such uses:

General routine uses A, B, C, D, F, G, and I apply to this system. Records may also be used to disclose information to current or former Board employees and other individuals currently or formerly provided telephone services by the Board to determine individual responsibility for telephone calls.

Policies and practices for storing, retrieving, accessing, retaining, and disposing of records in the system:

Storage. Records are stored in paper and electronic form.

Retrievability. Records can be retrieved by name of individual or telephone number or by number(s) dialed.

Safeguards. Access to records is limited to those whose official duties require it. Paper records are secured by lock and key and electronic records are password protected.

Retention and disposal. The retention and disposal period for these records is currently under review.

System manager and address:

Director, Division of Information Technology, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the telephone assignment records; call detail listings; results of administrative inquiries relating to assignment of responsibility for placement of specific long distance and local calls.

Exemptions claimed for the system:

None.

BGFRS-34

System name:

FRB—ESS Staff Identification Card File.

System location:

Board of Governors of the Federal Reserve System, 20th Street and Constitution Avenue, NW., Washington, DC 20551.

Categories of individuals covered by the system:

Past and present Board employees, temporary employees, retirees, tenants, other government agency employees who have a need for an FRB identification card, designated Federal Reserve Bank officers and employees, and contractors who have been issued a Board identification card.

Categories of records in the system:

Image of a picture of the individual; the individual's name; card number; finger minutiae; card status; badge expiration date; employer's name (if not the Board); relationship to the Board; card holder type; employee identification number; and division; and, if applicable, authorization to use the exercise facilities, data center, central stock room (CSR), or any other controlled area requiring permissions beyond general access. The database records the times of attempted and authorized card initiated access to and egress from the Board's buildings using the automated access control system. Additionally, access is logged for entry into controlled spaces.

Authority for maintenance of the system:

Sections 10 and 11 of the Federal Reserve Act (12 U.S.C. 243 and 248).

Purpose(s):

These records are collected and maintained to provide security of the Board's premises against unauthorized entry; to record entry to Board premises as well as entry into secured areas by authorized personnel; to record departure from Board's premises; to control access to certain areas within Board premises; and to determine who is present on Board property.

Routine uses of records maintained in the system, including categories of users and the purposes of such uses:

General routine uses A, B, C, D, F, G, and I apply to this system.

Policies and practices for storing, retrieving, accessing, retaining, and disposing of records in the system:

Storage. Records are stored in paper and electronic form.

Retrievability. Records can be retrieved by area, time/date, name, card number, or employee identification number.

Access Controls. Access to records is limited to those whose official duties require it. Paper records are secured by lock and key and electronic records are password protected.

Retention and disposal. The retention period for these records is currently under review. Until review is completed, these records will not be destroyed.

System manager and address:

Manager, Technical Security Unit, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains and the Board's personnel records. Information regarding entry into and egress from Board premises or secured areas is obtained from use of the card to open the doors. Authorization for access to secured facilities on Board premises is provided by the Board official responsible for that secured facility.

Exemptions claimed for the system:

None.

BGFRS-35

System name:

FRB—Staff Parking Permit File.

System location:

Board of Governors of the Federal Reserve System, 20th Street and Constitution Avenue, NW., Washington, DC 20551.

Categories of individuals covered by the system:

Past and present Board employees, consultants, visitors, and contractors who have applied for or been issued a parking permit for the Board's garages.

Categories of records in the system:

Completed parking application forms (FR 1103), disability parking applications, and contingency parking requests submitted by employees; unusual-work-demand permits and special contingency parking authorizations submitted by division directors; requests for parking for official visitors and contractors; notifications of lost permits; a listing of permit numbers assigned to car pools, van pools, and individual employees; investigations made of compliance with the Board's parking regulations; and official actions taken as a result of violation of the Board's parking regulations.

Authority for maintenance of the system:

Sections 10 and 11 of the Federal Reserve Act (12 U.S.C. 243 and 248).

Purpose(s):

These records are collected and maintained to allocate usage of the limited number of parking spaces in the Board's garages among Board staff, visitors and contractors, and to enforce the Board's parking regulations for safe use of the garages.

Routine uses of records maintained in the system, including categories of users and the purposes of such uses:

General routine uses A, C, D, F, G, and I apply to this system. Records may also be used:

1. To investigate possible violations of the Board's parking regulations;

2. To determine eligibility for a parking permit; and

3. To determine eligibility for a public transit subsidy payment.

Policies and practices for storing, retrieving, accessing, retaining, and disposing of records in the system:

Storage. Records are stored in paper and electronic form.

Retrievability. Records can be retrieved by name of individual, parking permit number, employee identification number, or license tag number.

Safeguards. Access to records is limited to those whose official duties require it. Paper records are secured by lock and key and electronic records are password protected.

Retention and disposal. The retention and disposal period for these records is currently under review.

System manager and address:

Assistant Director, Management Division, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains; parking permit applications, authorizations, and requests; and from written investigations of possible violations of the Board's parking regulations.

Exemptions claimed for the system:

None.

BGFRS-36

System name:

FRB—Federal Reserve Application Name Check System.

System location:

Board of Governors of the Federal Reserve System, 20th Street and Constitution Avenue, NW., Washington, DC 20551.

Categories of individuals covered by the system:

Designated persons who are parties to regulatory applications, notices and/or proposals submitted to the Federal Reserve Board.

Categories of records in the system:

Name; social security, passport, or other identifying number, address; occupation, birth city, state, and country; country(ies) of citizenship; date of birth; names of related companies and the person's role at those companies; an indication whether each agency conducting a check had any information on the person and the results of the name check; and name and address of the financial institution that submitted the application with which the person was associated.

Authority for maintenance of the system:

Sections 9, 19, 25 and 25A of the Federal Reserve Act (12 U.S.C. 321-328, 466, 601-604(a) and 611-631); the Change in Bank Control Act (12 U.S.C. 1817(j)); Section 18(c) of the Bank Merger Act (12 U.S.C. 1828(c)); Section 32 of the Federal Deposit Insurance Act (12 U.S.C. 1831i); Sections 3, 4, and 5 of the Bank Holding Company Act of 1956 (12 U.S.C. 1842, 1843 and 1844); Section 5 of the Bank Service Company Act (12 U.S.C. 1865); Sections 7, 8 and 10 of the International Banking Act (12 U.S.C. 3105, 3106 and 3107); the Board's Regulation H (12 CFR Part 208); the Board's Regulation K (12 CFR Part 211); the Board's Regulation L (12 CFR Part 212); the Board's Regulation Y (12 CFR Part 225); and Executive Order 9397.

Purpose(s):

These records are collected and maintained to assist the Board in evaluating the proposed officers, directors, principal shareholders, or other persons associated with a depository institution, holding company, or other foreign or domestic entity in connection with the Board's consideration of various regulatory applications, notices, or proposals. The Board uses these records, along with other information, to determine whether the related filing meets the statutory factors for approval.

Routine uses of records maintained in the system, including categories of users and the purposes of such uses:

There are no routine uses that apply to the results of the name check. General routine uses A, B, C, D, G, and I apply to all other categories of information in the system. These records may also be used:

1. To disclose certain information to other Federal agencies to enable completion of the name check process related to a particular filing; and

2. To disclose certain information to other bank and thrift regulatory agencies pursuant to explicit information sharing agreements for regulatory comment purposes.

Policies and practices for storing, retrieving, accessing, retaining, and disposing of records in the system:

Storage. Records are stored in paper and electronic form.

Retrievability. Records are generally retrieved by an identification code internally assigned to each related filing or by the name of the financial institution involved in the related filing. However, records also can be retrieved by the name of the individual on whom they are maintained.

Access Controls. Access and use of these records is limited to those persons whose official duties require such access. Paper records are secured by lock and key and electronic records are password protected.

Retention and disposal. All records are retained for 15 years and destroyed when no longer needed for administrative or reference purposes.

System manager and address:

Deputy Associate Director, Division of Banking Supervision and Regulation, Board of Governors of the Federal Reserve System, 20th Street and Constitution Avenue, NW., Washington, DC 20551.

Notification procedures:

An individual desiring to learn of the existence of, or to gain access to, his or her record in this system of records shall submit a request in writing to the Secretary of the Board, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individuals to whom the record pertains or their agents (such as law firms or consultants) during the regulatory application, notice, or proposal process. In addition, FRS staff, as part of the due diligence process associated with the review of a particular filing, performs name checks on the individuals to be involved in the business transaction related to such filings by contacting other Federal agencies for comments related to the identified individuals.

Exemptions claimed for the system:

Certain portions of this system of records may be exempt from 5 U.S.C. 552a(c)(3), (d), (e)(1), (e)(4)(G), (H), and (I), and (f) of the Privacy Act pursuant to 5 U.S.C. 552a(k)(2).

BGFRS/OIG-1

System name:

FRB—OIG Investigative Records.

System location:

Office of Inspector General, Board of Governors of the Federal Reserve System, 1709 New York Avenue, NW., Suite 3000, Washington, DC 20006.

Categories of individuals covered by the system:

Officers or employees of the Board or other persons involved in the Board's programs or operations who are or have been under investigation by the Board's Office of Inspector General in order to determine whether such officers, employees or other persons have been or are engaging in fraud and abuse with respect to the Board's programs or operations; and complainants and witnesses where necessary for future retrieval.

Categories of records in the system:

Individual investigations, including investigative reports and related documents generated during the course of or subsequent to an investigation; electronic and hard-copy case-tracking systems; databases containing investigatory information; “Hotline” telephone logs and investigator work papers; and memoranda and letter referrals to management or others.

Authority for maintenance of the system:

Sections 4 and 6 of the Inspector General Act of 1978 (5 U.S.C. App. 4(a)(1) and 6(a)(2)).

Purpose(s):

These records are collected and maintained by the OIG in its inquiries and investigations and reports relating to the administration of the Board's programs and operations and to manage the investigatory program.

Routine uses of records maintained in the system, including categories of users and the purposes of such uses:

General routine uses A, B, C, D, E, F, G and I apply to this system. Records may also be used:

1. To disclose information to other federal entities, such as other federal Offices of Inspector General or the General Accounting Office, or to a private party with which the OIG or the Board has contracted for the purpose of auditing or reviewing the performance or internal management of the OIG's investigatory program, provided the record will not be transferred in a form that is individually identifiable, and provided further that the entity acknowledges in writing that it is required to maintain Privacy Act safeguards for the information;

2. To disclose information to officials charged with the responsibility to conduct qualitative assessment reviews of internal safeguards and management procedures employed in investigative operations. This disclosure category consists of members of the Executive Council on Integrity and Efficiency (ECIE), the President's Council on Integrity and Efficiency (PCIE), and officials and administrative staff within their investigative chain of command authorized by the ECIE or PCIE to conduct or participate in such qualitative assessment reviews; and

3. To disclose information to any source, including a federal, state, or local agency maintaining civil, criminal, or other relevant enforcement information or other pertinent information, but only to the extent necessary for the OIG to obtain information relevant to an OIG investigation.

Policies and practices for storing, retrieving, accessing, retaining, and disposing of records in the system:

Storage. Records are stored in paper and electronic form.

Retrievability. Records can be retrieved by numerous identifiers, including the name of the individual under investigation, investigation number, referral number, or investigative subject matter.

Access Controls. Access to records is limited to those whose official duties require it. Paper records are secured by lock and key and electronic records are password protected.

Retention and disposal. All files are cut off annually and destroyed 10 years after cut off.

System manager and address:

Inspector General, Board of Governors of the Federal Reserve System, 20th Street and Constitution Avenue, NW., Washington, DC 20551.

Notification procedures:

An individual desiring to learn the existence of, or to gain access to, his or her record in this system of records shall submit a request in writing to the Inspector General, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedures:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, employees of the Board and the Federal Reserve System, other government employees, witnesses and informants, and nongovernmental sources.

Exemptions claimed for the system:

This system is exempt from any part of the Privacy Act, 5 U.S.C. 552a, except 5 U.S.C. 552a(b), (c)(1) and (2), (e)(4)(A) through (F), (e)(6), (7), (9), (10), and (11), and (i) pursuant to 5 U.S.C. 552a(j)(2). Additionally, certain portions of this system of records may be exempt from 5 U.S.C. 552a(c)(3), (d), (e)(1), (e)(4)(G), (H), and (I), and (f) of the Privacy Act pursuant to 5 U.S.C. 552a(k)(2) and (k)(5).

BGFRS/OIG-2

System name:

OIG Personnel Records.

System location:

Office of Inspector General, Board of Governors of the Federal Reserve System, 1709 New York Avenue, NW., Suite 3000, Washington, DC 20006.

Categories of individuals covered by the system:

Persons who have applied for employment with the Federal Reserve Board's Office of Inspector General.

Categories of records in the system:

Information relating to the education, training, employment history and earnings; appraisal of past performance; convictions for offenses against the law; results of tests, appraisals of potential, honors, awards of fellowships; military service or veteran status; school transcripts; work samples; birth date; Social Security number; travel vouchers; offer letters and correspondence, reference checks; and home address of past, present and prospective employees of the OIG. Includes allocations of time spent on various OIG projects and tasks (OIG Time Entry System) and related documents and reports generated by the Time Entry System.

Authority for maintenance of the system:

Section 8E of the Inspector General Act of 1978 and section 11 of the Federal Reserve Act (5 U.S.C. App. 8E(g)(2) and 12 U.S.C. 248(l)), and Executive Order 9397.

Purpose(s):

These records are collected and maintained to assist the OIG in making determinations regarding hiring, retention, promotion, and performance-evaluation decisions.

Routine uses of records maintained in the system, including categories of users and purposes of such use:

General routine uses A, B, C, D, E, F, G and I apply to this system. Records may also be used:

1. To disclose information to intelligence agencies of the United States, including the Department of Defense, National Security Agency, Central Intelligence Agency, and the Federal Bureau of Investigation for use in intelligence activities;

2. To disclose information to any source from which information is requested by the Board in the course of an investigation, to the extent necessary to identify the individual, inform the course of the nature and purpose of the investigation, and to identify the type of information requested;

3. To disclose information in producing summary descriptive statistics and analytical studies to support the function for which the records are collected and maintained, or for related work force studies (While published statistics and studies do not contain individual identifiers, in some instances the selection of elements of data included in the study may be structured in such a way as to make the data individually identifiable by inference.);

4. To disclose information to other federal entities, such as other federal offices of inspector general or the General Accounting Office, or to a private party with which the OIG or the Board has contracted for the purpose of auditing or reviewing the performance or internal management of the OIG, provided the record will not be transferred in a form that is individually identifiable, and provided further that the entity acknowledges in writing that it is required to maintain Privacy Act safeguards for the information; and

5. To disclose information to officials charged with the responsibility to conduct qualitative assessment reviews of internal safeguards and management procedures. This disclosure category consists of members of the Executive Council on Integrity and Efficiency (ECIE), the President's Council on Integrity and Efficiency (PCIE), and officials and administrative staff authorized by the ECIE or PCIE to conduct or participate in such qualitative assessment reviews.

Policies and practices for storing, retrieving, accessing, retaining and disposing of records in the system:

Storage. Records are stored in paper and electronic form.

Retrievability. Records may be retrieved by a variety of personal-identification means (including by Social Security number, employee number, room number) and project or assignment codes.

Access Controls. Access to records is limited to those whose official duties require it. Paper records are secured by lock and key and electronic records are password protected.

Retention and disposal. All other records are retained for the appropriate period which ranges from no retention period to one year after separation or transfer.

System manager and address:

Inspector General, Board of Governors of the Federal Reserve System, 20th Street and Constitution Avenue, NW., Washington, DC 20551.

Notification procedure:

An individual desiring to learn the existence of, or to gain access to, his or her record in this system of records shall submit a request in writing to the Inspector General, Board of Governors of the Federal Reserve System, 20th Street and Constitution Avenue, NW., Washington, DC 20551. The request should contain: (1) A statement that it is made pursuant to the Privacy Act of 1974, (2) the name of the system of records expected to contain the record requested or a concise description of such system of records, (3) necessary information to verify the identity of the requester, and (4) any other information that may assist in the rapid identification of the record for which access is being requested.

Record access procedures:

Same as “Notification procedures” above.

Contesting record procedure:

Same as “Notification procedures” above except that the envelope should be clearly marked “Privacy Act Amendment Request.” The request for amendment of a record should: (1) Identify the system of records containing the record for which amendment is requested, (2) specify the portion of that record requested to be amended, and (3) describe the nature of and reasons for each requested amendment.

Record source categories:

Information is provided by the individual to whom the record pertains, employees of the Board and the Federal Reserve System, other government employees, and witnesses and informants.

Exemptions claimed for the system:

Certain portions of this system of records may be exempt from 5 U.S.C. 552a(c)(3), (d), (e)(1), (e)(4)(G), (H), and (I), and (f) of the Privacy Act pursuant to 5 U.S.C. 552a(k)(5).

By order of the Board of Governors of the Federal Reserve System, April 30, 2008.
Jennifer J. Johnson,
Secretary of the Board.

[FR Doc. E8-9926 Filed 5-5-08; 8:45 am]

BILLING CODE 6210-01-P